DEPARTMENT OF HOUSING AND URBAN DEVELOPMENT

[Docket No. FR-4997-N-04]

Notice of Regulatory Waiver Requests Granted for the Fourth Quarter of Calendar Year 2005

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2005, and ending on December 31, 2005.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the fourth quarter of calendar year 2005.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337) (1991 Policy Statement). This notice covers waivers of regulations granted by HUD from October 1, 2005, Through December 31, 2005. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about regulatory waivers granted during the period covered by this report (the fourth quarter of calendar year 2005) before the next report is published (the first quarter of calendar year 2006), HUD will include any additional waivers granted for the fourth quarter of 2005 in the first report for 2006.

Accordingly, information about approved waiver requests pertaining to HUD regulations is provided in the Appendix that follows this notice.

Dated: May 1, 2006.
Keith E. Gottfried,
General Counsel.

Appendix—Listing of Waivers of Regulatory Requirements Granted by Offices of the Department of Housing and Urban Development October 1, 2005, Through December 31, 2005

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person who immediately follows the description of the waiver granted.

• Regulation: 24 CFR 91.105(c)(2)

Project/Activity: The cities of Moss Point, Gulfport, and Biloxi, Mississippi, requested a waiver of § 91.105(c)(2) of the Consolidated Plan regulations (24 CFR part 91), which addresses the public comment period on substantial amendments to consolidated plan action plans.

Nature of Requirement: Section 91.105(c)(2) of HUD's Consolidated Plan regulations requires grantees' citizen participation plans to provide citizens with reasonable notice and an opportunity to comment on substantial amendments to consolidated plan action plans. The regulation requires a period of not less than 30-days to receive comments on substantial amendments before any amendments are implemented.

Granted By: Pamela H. Patenaude, Assistant Secretary for Community Planning and Development.

Date Granted: December 21, 2005.

Reasons Waived: The cities of Moss Point, Gulfport, and Biloxi were severely impacted by the hurricanes and needed relief from the 30-day comment period to address the sudden needs caused by hurricane related damage. Given the unexpected nature of this situation, the grantees' consolidated plans did not include activities designed to address these needs and expenses. In order to quickly address these costs, these entitlement grantees sought approval to waive the 30-day public comment period standard in order to amend approved consolidated plans. HUD was unable to totally waive this statutory requirement but the waiver granted reduces the comment period to 10-days.

Contact: Mark Walling, Community Planning and Development, Department of Housing and Urban Development, 451 Seventh Street, SW., Washington, DC 20410-7000, telephone (202) 708-1577.

• Regulation: 24 CFR 91.105(c)(2), 24 CFR 91.115(c)(2)

Project/Activity: The states of Alabama, Louisiana Mississippi (and the communities in these states) requested waiver of 24 CFR 91.105(c)(2), 24 CFR 91.115(c)(2) of the Consolidated Plan regulations to reduce public comment period after amendments to consolidated plans.

Nature of requirement: These regulatory provisions require a public comment period of 30 days on amendments to consolidated plan.

Granted By: Pamela H. Patenaude, Assistant Secretary for Community Planning and Development.

Date Granted: October 13, 2005.

Reasons Waived: Reducing the public comment period after changes in the consolidated plan from 30 days to 3 days gives these states, devastated by the hurricanes, the flexibility and the ability to streamline their citizen participation process and expedite the provision of relief and disaster recovery assistance. This is a re-issuance of the Hurricane Katrina waivers signed on September 5, 2005 (for Entitlement communities) and September 21, 2005 (for States), making the provision applicable to Hurricane Rita.

Contact: Steve Johnson, Director, State and Small Cities Division, Office of Block Grant Assistance, Community Planning and Development, Department of Housing and Urban Development, 451 Seventh Street, SW., Room 7184, Washington, DC 20410-7000, telephone (202) 708-1322.

• Regulation: 24 CFR 91.225(a)(6), 24 CFR 570.903, and a statutory suspension of 42 U.S.C. 12706

Project/Activity: The city of Gulfport, Mississippi, requested a waiver of 24 CFR 91.225(a)(6), 24 CFR 570.903, and a statutory suspension of 42 U.S.C. 12706, regarding jurisdictions that must certify that their housing activities are consistent with their strategic plans.

Nature of Requirement: HUD's Consolidated Plan regulation at 24 CFR 91225(a)(6) and its CDBG regulation at 24 CFR 570.903 require jurisdictions to submit a certification that its housing activities are consistent with its strategic plan.

Granted By: Pamela H. Patenaude, Assistant Secretary for Community Planning and Development.

Date Granted: December 21, 2005.

Reasons Waived: Since submission of its last five-year consolidated plan, the city of Gulfport's housing and other community development needs suddenly changed due to the impact of Hurricane Katrina. It was determined unreasonable to hold the city to the previously identified needs and the waivers were granted concurrently with the statutory suspension that allows the city of Gulfport to respond to emergency needs without assuring consistency with its strategic plan.

Contact: Mark Walling, Community Planning and Development, Department of Housing and Urban Development, 451 Seventh Street, SW., Washington, DC 20410-7000, telephone (202) 708-1577.

• Regulation: 24 CFR 92.300(a)(1)

Project/Activity: The State of Wisconsin's compliance with HOME program requirements.

Nature of Requirements: Section 92.300(a)(1) of the HOME program regulations (24 CFR part 92) permits PJs to award community housing development organizations (CHDOs) to set-aside funds to limited partnerships that include a qualified CHDO as the managing general partner.

Granted By: Pamela H. Patenaude, Assistant Secretary for Community Planning and Development.

Date Granted: November 9, 2005.

Reasons Waived: The State of Wisconsin sought to permit its CHDOs to use the limited liability corporation (LLC) form of ownership rather than limited partnerships, because it is less expensive to form an LLC. The waiver was granted on the basis of the state's assurances that these CHDOs (or a wholly owned subsidy of these CHDOs) would be the sole managing members of the LLCs, and therefore in compliance with the requirement that CHDOs have effective management control of projects for which they receive CHDO set-aside funds.

Contact: Virginia Sardone, Office of Community Planning and Development, Department of Housing and Urban Development, 451 Seventh Street, SW., Washington, DC 20410-7000, telephone (202) 708-2684.

• Regulation: 24 CFR 92.300(a)(1)

Project/Activity: The city of Lake Charles, Louisiana, compliance with the HOME program requirements.

Nature of Requirements: Section 92.300(a)(1) of the HOME program regulations (24 CFR part 92) requires that a PJ reserve not less than 15 percent of each annual allocation for housing owned, sponsored or developed by CHDOs within 24 months after HUD notifies the PJ that HUD has executed the jurisdiction's HOME Investment Partnership Agreement.

Granted By: Pamela H. Patenaude, Assistant Secretary for Community Planning and Development.

Date Granted: December 21, 2005.

Reasons Waived: Although the city had met its 24-month CHDO reservation requirement, the approved waiver allows the FY 2001-2004 and FY 2007 CHDO reservation requirements to be met as well as ensure that the needed HOME funds are not deobligated. Many of the city's CHDOs are no longer operational due to Hurricane Katrina and the city needed the flexibility to address the rebuilding of its devastated areas as well as adequate time to rebuild its CHDO capacity.

Contact: Ginger Macomber, Office of Community Planning and Development, Department of Housing and Urban Development, 451 Seventh Street, SW., Washington, DC 20410-7000, telephone (202) 708-2684.

• Regulation: 24 CFR 570.208(a)(3)

Project/Activity: The city of Minneapolis, Minnesota, requested a waiver of 24 CFR 570.208(a)(3) to allow an owner-occupied multiple building project, to be considered a single structure as is allowed for multiple rental buildings for the purpose of meeting the housing national objective for low- and moderate-income persons.

Nature of Requirements: The national objective regulation of the Community Development Block Grant (CDBG) program at 24 CFR 570.208 (a)(3) generally requires that at least 51 percent of the units in multi-unit residential structures and 100 percent of single-unit residential structures be occupied by low- and moderate-income households.

Granted By: Pamela H. Patenaude, Assistant Secretary for Community Planning and Development.

Date Granted: December 21, 2005.

Reasons Waived: The granting of the waiver allowed six separate owner-occupied residential buildings to be considered a single structure for purposes of determining compliance with the national objectives. Completion of the project allows low- and moderate-income households to occupy at least 33 of the 64 units.

Contact: Otis Collins, Office of Community Planning and Development, Department of Housing and Urban Development, 451 Seventh Street, SW., Washington, DC 20410-7000, telephone (202) 708-1577.

• Regulation: 24 CFR 570.207(b)(4)

Project/Activity: San Diego County requested a waiver on behalf of the city of Poway, California, regarding income payments to expand the emergency grant payment period.

Nature of Requirements: Section 570.207(b)(4) permits emergency grant payments for a period of up to three consecutive months and these payments must be made to the provider of such items or services on behalf of individuals or families.

Granted By: Pamela H. Patenaude, Assistant Secretary for Community Planning and Development.

Date Granted: November 21, 2005.

Reasons Waived: Due to a substantial number of Hurricane Katrina evacuees having relocated to the city of Poway, this waiver was granted. The city of Poway is a participating community in San Diego County's CDBG Urban County program. The city requested that the county approve reallocation of $106,167 in CDBG funds to assist a minimum of five families for up to a year with emergency grant payments.

Contact: Michael Kelly, Community Planning and Development, Department of Housing and Urban Development, 451 Seventh Street, SW., Washington, DC 20410-7000, telephone (202) 708-1577.

• Regulation: 24 CFR 570.207(b)(1)

Project/Activity: The city of Moss Point, Mississippi, requested a waiver of 24 CFR 570.207(b)(1) regarding the purchase of equipment with CDBG funds.

Nature of Requirement: The CDBG regulation at § 570.207(b)(1) generally prohibits the purchase of equipment with CDBG funds.

Granted By: Pamela H. Patenaude, Assistant Secretary for Community Planning and Development.

Date Granted: December 21, 2005.

Reasons Waived: The city of Moss Point, like many communities impacted by Hurricane Katrina, did not have a steady source of electricity or other means of power, long after the hurricane. Having generators as a back up to power failures enabled sanitary and water systems to continue to operate and function, reducing the health risk to the community. A waiver of 24 CFR 570.207(b)(1)(iii) permitted the purchase of equipment such as emergency generators for municipal water and sewer facilities to be used for public purposes.

Contact: Mark Walling, Community Planning and Development, Department of Housing and Urban Development, 451 Seventh Street, SW., Washington, DC 20410-7000, telephone (202) 708-1577.

• Regulation: 24 CFR 570.207(b)(3)

Project/Activity: The cities of Moss Point and Gulfport, Mississippi, requested a waiver of 24 CFR 570.207(b)(3), concurrent to a statutory suspension of 105(a) of the Housing and Community Development Act of 1974, regarding new housing construction.

Nature of Requirement: Under § 570.207(b)(3), CDBG funds may not be used for the construction of new permanent residential structures or for any program to subsidize or assist new construction directly by grantees.

Granted By: Pamela H. Patenaude, Assistant Secretary for Community Planning and Development.

Date Granted: December 21, 2005.

Reasons Waived: Given the widespread destruction of housing units, it was determined in the community's best interest to be able to use all potential funding sources to provide new housing units for its residents.

Contact: Mark Walling, Community Planning and Development, Department of Housing and Urban Development, 451 Seventh Street, SW., Washington, DC 20410-7000, telephone (202) 708-1577.

• Regulation: 24 CFR 570.208(a)(4)(ii), 24 CFR 570.208(a)(4)(iv)(A)(1) and (B) and (a)(4)(v)

Project/Activity: The city of Gulfport, Mississippi, requested a waiver of 24 CFR 570.208(a)(4)(ii), and 24 CFR 570.208(a)(4)(iv)(A)(1) and (B) and (a)(4)(v), regarding documentation requirements for job creation and retention activities.

Nature of Requirement: The CDBG regulations at 24 CFR 570.208(a)(4)(i) and 24 CFR 570.208(a)(4)(ii) set forth the requirements for demonstrating compliance of benefit to low- and moderate-income persons pursuant to Housing and Community Development Act of 1974. The regulations provide that for job retention, at the time of CDBG assistance, at least 51 percent of the jobs are either: (1) Known to be held by low- and moderate-income persons; or (2) can be expected to turnover within the following two years and be filled by, or made available to, low-or moderate-income persons; and (3) removes the requirement that “* * * the recipient must document that the jobs would actually be lost without the CDBG assistance * * *” The provisions of 24 CFR 570.208(a)(4)(iv)(A)(1) and (B) and (a)(4)(v) include criteria that presume low-or moderate-income benefit based on the location of the individual beneficiaries or assisted businesses. For job creation and/or retention activities, in addition to the presumption already allowed, a city may presume any census tract as meeting the criteria of paragraph 24 CFR 570.208(a)(4)(v), if at least 51 percent of the residents of the tract are of low- and moderate-income, according to either the latest low/mod income summary data (LMISD) or a more recent survey.

Granted By: Pamela H. Patenaude, Assistant Secretary for Community Planning and Development.

Date Granted: December 21, 2005.

Reasons Waived: The impact of the hurricanes on the city of Gulfport's economy was so severe that the city may presume that jobs would actually be lost from businesses that have been destroyed or whose continued operation is endangered. The Housing and Community Development Act of 1974, describes situations in which jobs may be presumed to principally benefit low- and moderate-income persons. The degree of socioeconomic and physical distress that now exists in Gulfport is functionally equivalent to the degree of distress recognized by the statutory criteria allowing such presumptions.

Contact: Mark Walling, Community Planning and Development, Department of Housing and Urban Development, 451 Seventh Street, SW., Washington, DC 20410-7000, telephone (202) 708-1577.

• Regulation: 24 CFR 570.483(b)(4)(ii), 24 CFR 570.483(b)(4)(A)(1) and 24 CFR 570.483(b)(4)(v) and 24 CFR 570.483(b)(1)(v)(D) and 24 CFR 570.483(e)(5)(i)

Project/Activity: The states of Louisiana and Mississippi requested waiver of 24 CFR 570.483(b)(4)(ii) of the job retention requirement.

Nature of Requirement: These regulatory provisions require units of general local government, for job retention activities, to document that either or both of the following conditions apply to at least 51 percent of the jobs at the time CDBG assistance is provided: (1) the jobs are known to be held by low-or moderate-income persons, or (2) the jobs can be expected to turn over within two years and be filled by or made available to low or moderate income persons upon turnover.

Granted By: Pamela H. Patenaude, Assistant Secretary for Community Planning and Development.

Date Granted: November 9, 2005.

Reasons Waived: HUD recognized that the impact of the hurricane on the economies of the states of Louisiana and Mississippi (and on individual businesses) was so severe that, absent substantial evidence to the contrary, the states may presume that jobs would actually be lost from businesses that have been put out of operation or whose continued operation is endangered. The Housing and Community Development Act of 1974 describes certain situations in which jobs may be presumed to principally benefit low- and moderate-income persons. The degree of socioeconomic and physical distress that continues to exist in many communities, devastated by the hurricanes, is functionally equivalent to the degree of distress recognized by the statutory criteria allowing such presumptions. Similarly, HUD recognized that the degree of socioeconomic and physical distress that continues to exist in many communities, devastated by the hurricanes, is functionally equivalent to that envisioned by HUD when the community revitalization strategy concept was added to the regulations.

Contact: Steve Johnson, Director, State and Small Cities Division, Office of Block Grant Assistance, Community Planning and Development, Department of Housing and Urban Development, 451 Seventh Street, SW., Room 7184, Washington, DC 20410-7000, telephone (202) 708-1322.

• Regulation: 24 CFR 570.484, 24 CFR 91.325(b)(4)(ii)

Project/Activity: The state of Louisiana requested a change to the timeframe needed to demonstrate compliance with 24 CFR 570.484 of the CDBG regulations, and 24 CFR 91.325(b)(4)(ii) of the Consolidated Plan regulations, the requirement that 70 percent of funds must be expended for activities that benefit low- and moderate-income persons.

Nature of Requirement: These regulatory provisions require certification by a state that not less than 70 percent of CDBG will be used for activities that benefit low- and moderate-income persons.

Granted By: Pamela H. Patenaude, Assistant Secretary for Community Planning and Development.

Date Granted: October 28, 2005.

Reason Waived: Allowing the state of Louisiana to change the timeframe to demonstrate compliance allowed the state to use a higher percentage of funds for activities meeting the urgent need or slum/blight national objective.

Contact: Steve Johnson, Director, State and Small Cities Division, Office of Block Grant Assistance, Community Planning and Development, Department of Housing and Urban Development, 451 Seventh Street, SW., Room 7184, Washington, DC 20410-7000, telephone (202) 708-1322.

• Regulation: 24 CFR 570.486(a)(5), 24 CFR 91.115(b)(3), 24 CFR 91.115(b)(4)

Project/Activity: The state of Louisiana requested waiver of 24 CFR 570.486(a)(5), 24 CFR 91.115(b)(3), and 24 CFR 91.115(b)(4) relating to the length of the public comment period, and the requirement for hearings (including an addition public hearing for its 2006 action plan) prior to the submission of an application to the State. The state of Mississippi requested waiver of 24 CFR 570.486(a)(5), and 24 CFR 91.115(b)(4) regarding the length of the public comment period, and the requirement for hearings prior to the submission of an application to the state.

Nature of Requirement: The regulatory provisions require full citizen participation in the proposed use of CDBG funds, and a 30-day public comment period to allow for changes to the action plan.

Granted By: Pamela H. Patenaude, Assistant Secretary for Community Planning and Development.

Date Granted: October 28, 2005, for the state of Louisiana and November 9, 2005, for the state of Mississippi.

Reasons Waived: Reducing the public comment period from 30 days to 3 days gave these states, devastated by hurricanes, the flexibility and the ability to streamline their citizen participation process as well as that of local governments; and permits one public hearing, which still allows for adequate public input.

Contact: Steve Johnson, Director, State and Small Cities Division, Office of Block Grant Assistance, Community Planning and Development, Department of Housing and Urban Development, 451 Seventh Street, SW., Room 7184, Washington, DC 20410-7000, telephone (202) 708-1322.

• Regulations: 24 CFR 582.105(e)

Project/Activity: The City of Fort Worth Housing Authority, TX, requests waiver of 24 CFR 582.105(e) of the homeless Shelter Plus Care requirements.

Nature of Requirements: Section 582.105(e) of the Shelter Plus Care regulations states that up to 8 percent of the grant amount may be used to pay the administrative costs of administering housing assistance. Eligible administrative costs include processing rental payments to landlords, examining participant income and family composition, providing housing information and assistance, inspecting units for compliance with housing quality standards, and receiving new participants into the program.

Granted By: Pamela H. Patenaude, Assistant Secretary for Community Planning and Development.

Date Granted: December 1, 2005

Reasons Waived: The Fort Worth Housing Authority extended the term the grant to serve homeless households for close to an additional year. The Shelter Plus Care regulations anticipated the 8 percent administrative fee would be spent over a five-year period. In this case, the five-year period has been completed but the “no-cost” extension did not provide for any additional administrative costs. The waiver permits an increase in the 8 percent cap to 9.6 percent to allow them to continue to administer the grant for the entire projected term of the extension.

Contact: Mark Johnston, Office of Community Planning and Development, Department of Housing and Urban Development, 451 Seventh Street, SW., Washington, DC 20410-7000, telephone (202) 708-4300.

• Statutes and Regulations: 42 U.S.C. 5304(d)(2), 42 U.S.C. 5304(d)(3), and 24 CFR 42.375, 24 CFR 42.350

Project/Activity: The states of Louisiana and Mississippi requested suspension of 42 U.S.C. 5304(d)(2), 42 U.S.C. 5304(d)(3), and waiver 24 CFR 42.375, 24 CFR 42.350 of the one-for-one replacement requirements for low- and moderate-income housing units that are demolished or converted to another use.

Nature of Requirement: These statutory provisions and corresponding regulatory provisions require that one-for-one replacement requirements provisions be adhered for the low- and moderate-income housing units that are demolished or converted to another use.

Granted By: Pamela H. Patenaude, Assistant Secretary for Community Planning and Development.

Date Granted: October 28, 2005, for the state of Louisiana and November 9, 2005, for the state of Mississippi.

Reasons Suspended and Waived: These suspensions and waivers were determined necessary to relieve the state and local governments of requirements that impede disaster recovery, discourage local governments from acquiring, demolishing or rehabilitating disaster-damaged housing and thereby inhibiting recovery efforts designed to address health and safety problems. The waiver still assures uniform and equitable treatment for all such tenants.

Contact: Steve Johnson, Director, State and Small Cities Division, Office of Block Grant Assistance, Community Planning and Development, Department of Housing and Urban Development, 451 Seventh Street, SW., Room 7184, Washington, DC 20410-7000, telephone (202) 708-1322.

• Statutes and Regulations: 42 U.S.C. 5304(j) and 24 CFR 570.489(e)(3)

Project/Activity: The states of Louisiana and Mississippi requested suspension of 42 U.S.C. 5304(j) and waiver of 24 CFR 570.489(e)(3) to permit retaining program income at the state level.

Nature of Requirement: This statutory provision and corresponding regulatory provision require units of general local government to return all program income not under contract to the state, allowing the state to manage the allocation of resources to areas of greatest needs.

Granted By: Pamela H. Patenaude, Assistant Secretary for Community Planning and Development.

Date Granted: October 28, 2005, for the state of Louisiana and November 9, 2005, for the state of Mississippi.

Reasons Waived: Requiring units of general local governments to return all program income will allow these states, devastated by hurricanes, to manage the allocation of resources to the greatest needs. The waiver only applies to funding not under contract to units of general local government.

Contact: Steve Johnson, Director, State and Small Cities Division, Office of Block Grant Assistance, Community Planning and Development, U.S. Department of Housing and Urban Development, 451 Seventh Street, SW., Room 7184, Washington, DC 20410-7000, telephone (202) 708-1322.

Contact: Steve Johnson, Director, State and Small Cities Division, Office of Block Grant Assistance, Community Planning and Development, Department of Housing and Urban Development, 451 Seventh Street, SW., Room 7184, Washington, DC 20410-7000, telephone (202) 708-1322.

• Statute: 42 U.S.C. 5305(a)

Project/Activity: The states of Louisiana and Mississippi requested suspension of 42 U.S.C. 5305(a) to permit construction of new housing.

Nature of Requirement: This statutory provision restricts the use of State CDBG for construction of new housing pursuant to section 105(a) of the Housing and Community Development Act of 1974.

Granted By: Pamela H. Patenaude, Assistant Secretary for Community Planning and Development.

Date Granted: October 28, 2005, for the state of Louisiana, and November 9, 2005, for the state of Mississippi.

Reason Suspended: Given the widespread destruction of housing units by the hurricanes, it was determined in the best interest of the states to allow them to use all potential funding sources to provide housing units for its residents.

Contact: Steve Johnson, Director, State and Small Cities Division, Office of Block Grant Assistance, Community Planning and Development, Department of Housing and Urban Development, 451 Seventh Street, SW., Room 7184, Washington, DC 20410-7000, telephone (202) 708-1322.

• Statute: 42 U.S.C. 5305(a)

Project/Activity: The state of Mississippi requested suspension of 42 U.S.C. 5305(a) to permit the purchase of equipment.

Nature of Requirement: This statutory provision restricts the use of State CDBG funds for the purchase of new equipment pursuant to section 105(a) of the Housing and Community Development Act of 1974.

Granted By: Pamela H. Patenaude, Assistant Secretary for Community Planning and Development.

Date Granted: November 9, 2005.

Reasons Waived: Many communities impacted by Katrina, well after the hurricanes, did not have a steady source of electricity or other means of power. Using State CDBG funds for the purchase of generators to use, as back up to power failures enabled sanitary and water systems to continue to operate and function reducing the health risk to the community.

Contact: Steve Johnson, Director, State and Small Cities Division, Office of Block Grant Assistance, Community Planning and Development, Department of Housing and Urban Development, 451 Seventh Street, SW., Room 7184, Washington, DC 20410-7000, telephone (202) 708-1322.

• Statute: 42 U.S.C. 5305(a)(24)(D) (formerly 42 U.S.C. 5305(a)(25)(D))

Project/Activity: The state of Louisiana requested suspension of 42 U.S.C. 5305(a)(24)(D), which limits downpayment assistance for direct homeownership assistance to low- and moderate-income homebuyers.

Nature of Requirement: This statutory provision places a 50 percent limit to down payment assistance for direct homeownership assistance to low- and moderate-income homebuyers.

Granted By: Pamela H. Patenaude, Assistant Secretary for Community Planning and Development.

Date Granted: October 28, 2005.

Reason Suspended: Based on the large number of persons anticipated to need homeownership assistance, it was determined in the best interest of the state to suspend the statute to provide for higher levels of down payment assistance as needed.

Contact: Steve Johnson, Director, State and Small Cities Division, Office of Block Grant Assistance, Community Planning and Development, Department of Housing and Urban Development, 451 Seventh Street, SW., Room 7184, Washington, DC 20410-7000, Telephone (202) 708-1322.

• Statute: 42 U.S.C. 5305(a)(8)

Project/Activity: The states of Alabama, Mississippi, and Louisiana requested suspension of 42 U.S.C. 5305(a)(8) of the cap on public services expenditures.

Nature of requirement: This statutory provision places a 15 percent cap on public services expenditure.

Granted By: Pamela H. Patenaude, Assistant Secretary for Community Planning and Development.

Date Granted: October 13, 2005.

Reasons Waived: The damage attributable to Hurricane Rita was so great and widespread that it caused an exodus from the declared disaster areas. Addressing the damage caused by the federally declared disaster involved addressing the needs of the population displaced by the disaster. Many of the needs are public services expenses and activities eligible under the CDBG program. This is a re-issuance of the Hurricane Katrina waiver signed on September 5, 2005, making the provision applicable to Hurricane Rita.

Contact: Steve Johnson, Director, State and Small Cities Division, Office of Block Grant Assistance, Community Planning and Development, Department of Housing and Urban Development, 451 Seventh Street, SW, Room 7184, Washington, DC 20410-7000, telephone (202) 708-1322.

• Statutes and Regulations: 42 U.S.C. 5306(d)(3)(A), 42 U.S.C. 5306(d)(5), 42 U.S.C. 5306(d)(6); 24 CFR 570.489(a)(1)(i) and 24 CFR 570.489(a)(1)(iii)

Project/Activity: The states of Louisiana and Mississippi requested suspension of 42 U.S.C. 5306(d)(3)(A), 42 U.S.C. 5306(d)(5), 42 U.S.C. 5306(d)(6), and waiver of 24 CFR 570.489(a)(1)(i), 24 CFR 570.489(a)(1)(iii) of the matching funds used for State Administration and the limit for combined State Administrative expenses and technical assistance.

Nature of Requirement: These statutory provisions and corresponding regulatory provisions require that a state must match the amount of funds used for State Administration exceeding $100,000 and adhere to the three percent limit for State Administrative expenses and technical assistance combined. There is a 20 percent overall cap for administrative and technical assistance funds.

Granted By: Pamela H. Patenaude, Assistant Secretary for Community Planning and Development.

Date Granted: October 28, 2005, for the state of Louisiana and November 9, 2005, for the state of Mississippi.

Reasons Suspended and Waived: By waiving the State Administration and Technical Assistance costs cap and allowing the use of matched funds for other purposes, HUD assisted the states of Louisiana and Mississippi in administering their program and using funds as best needed in affected communities. The 20 percent overall administrative cap was not waived.

Contact: Steve Johnson, Director, State and Small Cities Division, Office of Block Grant Assistance, Community Planning and Development, Department of Housing and Urban Development, 451 Seventh Street, SW., Room 7184, Washington, DC 20410-7000, telephone (202) 708-1322.

• Statues and Regulations: 42 U.S.C. 12705(a)(2), 42 U.S.C. 5304(m), 42 U.S.C. 5306(d)(2)(C)(iii); and 24 CFR 91.10, 24 CFR 91.320(c), 24 CFR 91.320(g)(1), 24 CFR 91.325(b)(2)(iv), 24 CFR 91.325(b)(3), 24 CFR 91.325(b)(2)(v)

Project/Activity: The states of Louisiana and Mississippi requested suspension of 42 U.S.C. 12705(a)(2), 42 U.S.C. 5304(m), 42 U.S.C. 5306(2)(C)(iii), and waiver of 24 CFR 91.10, 24 CFR 91.320(c), 24 CFR 91.320(g)(1), 24 CFR 91.325(b)(2)(iv), 24 CFR 91.325(c)(3), 24 CFR 91.325(b)(2)(v) of the action plan requirements.

Nature of Requirement: These statutory provisions and corresponding regulatory provisions require a state to submit annual action plan and adhere to citizen participation requirements.

Granted By: Pamela H. Patenaude, Assistant Secretary for Community Planning and Development.

Date Granted: October 28, 2005, for the state of Louisiana, and November 9, 2005, for the state of Mississippi.

Reasons Suspended and Waived: These suspensions and waivers allowed the states of Louisiana and Mississippi to streamline their 2006 program year action plans and amendments to 2005 action plans, and to expedite the distribution of funds to meet communities' emergency and long-term recovery needs.

Contact: Steve Johnson, Director, State and Small Cities Division, Office of Block Grant Assistance, Community Planning and Development, Department of Housing and Urban Development, 451 Seventh Street, SW., Room 7184, Washington, DC 20410-7000, telephone (202) 708-1322.

• Statutes and Regulations: 42 U.S.C. 12706 and 24 CFR 91.325(a)(6)

Project/Activity: The states of Louisiana and Mississippi requested suspension of 42 U.S.C. 12706 and waiver of 24 CFR 91.325(a)(6), concerning the strategic plan.

Nature of Requirement: The provisions require that housing activities be consistent with the strategic plan.

Granted By: Pamela H. Patenaude, Assistant Secretary for Community Planning and Development.

Date Granted: October 28, 2005, for the State of Louisiana and November 9, 2005, for the State of Mississippi.

Reasons Waived: Since the housing and other community development needs of the states suddenly changed due to the aftermath of Hurricanes Katrina and Rita, it was determined unreasonable to expect the states to thoroughly reinventory all of their needs and to finalize new strategies to address those needs. The states needed flexibility to respond to needs as soon as possible.

Contact: Steve Johnson, Director, State and Small Cities Division, Office of Block Grant Assistance, Community Planning and Development, Department of Housing and Urban Development, 451 Seventh Street, SW., Room 7184, Washington, DC 20410-7000, telephone (202) 708-1322.

II. Regulatory Waivers Granted by the Office of Housing—Federal Housing Administration (FHA)

For further information about the following regulatory waivers, please see the name of the contact person that immediately follows the description of the waiver granted.

• Regulation: 24 CFR 200.217(a)

Project/Activity: FHA Project 093-13003 North Valley Hospital, Whitefish, Montana.

Nature of Requirement: Electronic submission of previous participation certificate (HUD-2530)

Granted By: Brian D. Montgomery, Assistant Secretary for Housing—Federal Housing Commissioner.

Date Granted: December 9, 2005.

Reason Waived: The lender was not set up timely in the new electronic system. If electronic filing had been required, there would have been a delay of several weeks before initial closing could occur. That delay could have imposed a financial hardship on the hospital by delaying the availability of funding to continue construction and leaving the hospital low on its operating cash on hand. For these reasons, a paper filing was permitted.

Contact: John Whitehead, Director, Program Support Division, Department of Housing and Urban Development, 451 Seventh Street, SW., Washington, DC 20410-8000; telephone (202) 708-0614.

• Regulation: 24 CFR 203.37a (b)(2)

Project/Activity: The Federal Emergency Management Agency (FEMA) declared individual assistance disaster areas affected by Hurricanes Katrina, Rita, and Wilma.

Nature of Requirement: Section 203.37a (b)(2) prohibits properties acquired and subsequently resold by the seller within 90 days of the acquisition from being eligible for FHA mortgage insurance. The restriction was established as one of several measures to avoid price-inflating practices known as property flipping.

Granted By: Brian D. Montgomery, Assistant Secretary for Housing—Federal Housing Commissioner

Date Granted: November 21, 2005.

Reason Waived: Hurricanes Katrina, Rita and Wilma severely damaged or destroyed a significant number of dwellings

Contact: Margaret E. Burns, Director, Office of Single Family Program Development, Department of Housing and Urban Development, 451 Seventh Street, SW., Washington, DC 20410-8000; telephone (202) 708-2121.

• Regulation: 24 CFR 203.371(b) and 203.402(f)(2)

Project/Activity: For areas declared major disasters as a result of Hurricanes Katrina, Rita, and Wilma, there was a request for waiver of regulation that states that mortgagors must be able to immediately resume full mortgage payments to receive a Partial Claim loss mitigation initiative.

Nature of Requirement: Waivers of the requirements of 24 CFR 203.371(b) allowed victims of Hurricanes Katrina, Rita and Wilma to receive a Mortgage Assistance Initiative (Partial Claim) immediately and did not require the mortgagor to begin making mortgage payments immediately. Those mortgagors that would be deemed eligible had to have had been in an area designated by FEMA as eligible for individual assistance and must have a reasonable basis to show that within 12 months they would have recovered financially and then be able to support full mortgage payments. Waiver of 24 CFR 203.402(g) provides that for mortgages insured on or after November 19, 1992, insurance benefits will include reimbursement for payments made by a mortgage for preserving and protecting a property.

Granted By: Brian D. Montgomery, Assistant Secretary for Housing—Federal Housing Commissioner.

Date Granted: September 22, 2005.

Reason Waived: The regulatory sections were waived to provide loss mitigation assistance to mortgagors affected by Hurricanes Katrina, Rita and Wilma.

Contact: Leslie Bromer, Asset Management and Disposition, Department of Housing and Urban Development, 451 Seventh Street, SW., Washington, DC 20410-8000; telephone (202) 708-1672.

• Regulation: 24 CFR 207.72

Project/Activity: FHA Project 012-10036 St. Luke's-Roosevelt Hospital Center, New York, New York.

Nature of Requirement: Section 207.72 provides that insured project must comply with all applicable building and other governmental codes, ordinances, regulations, and requirements. This requirement includes having the appropriate Certificates of Occupancy.

Granted By: Brian D. Montgomery, Assistant Secretary for Housing—Federal Housing Commissioner.

Date Granted: October 20, 2005.

Reason Waived: The regulation was waived in order to allow section 223(a)(7) refinancing to proceed. The refinancing in the amount of $319,555,000 provides the hospital with approximately $10 million per year in additional liquidity in order to avoid a default. It is extremely difficult to keep Certificates of Occupancy current given the workload of the New York City Building Department. The buildings in question have been in use for some time and the items that prevent obtainment of Certificates of Occupancy do not threaten patient safety. The hospital submitted an action plan to obtain all required Certificates, established monthly monitoring by its Board of Trustees to ensure this happens, engaged consultants to assist in obtaining the Certificates, and has escrowed funds to cover permit fees. HUD will monitor progress.

Contact: John Whitehead, Director, Program Support Division, Department of Housing and Urban Development, 451 Seventh Street, SW., Washington, DC 20410-8000; telephone (202) 708-0614.

• Regulation: 24 CFR 236.725

Project/Activity: Bronx, New York (Stevenson Commons—Project Number 012-148NI and 012-11041). The New York Multifamily Hub requested waiver of the rent supplement contract to continue project-based Rental Assistance Payments for this project.

Nature of Requirement: Section 236.725 requires that the rental assistance contract shall be limited to the term of the mortgage or 40 years from the date of the first payment made under the contract, whichever is the lesser.

Granted By: Brian D. Montgomery, Assistant Secretary for Housing—Federal Housing Commissioner.

Date Granted: December 5, 2005.

Reason Waived: The waiver was granted for continuation of rental assistance payments (RAP) after the payoff of the original non-insured Section 236 mortgage under a Section 236(e)(2) decoupling transaction. This waiver is predicated on the fact that the decoupling proposal did not request an increase in the Section 236 units, hence the RAP subsidy is not being increased based on this transaction. Further RAP increases shall be based on budget driven project operating cost increases that will not include any new debt service costs attributable to the Decoupling transaction. Further, this waiver is predicated on the project owner entering into a Decoupling Use Restriction Agreement prescribed in the Section 236(e)(2) Decoupling program. There was good cause to waive the requirement because the project will be maintained as an affordable housing resource to the maturity date of the non-insured Section 236 mortgage plus an additional 5 years, through the execution and recording of a Decoupling Use Agreement.

Contact: Beverly J. Miller, Director, Office of Asset Management, U.S. Department of Housing and Urban Development, 451 Seventh Street, SW., Room 6160, Washington, DC 20410-7000; telephone (202) 708-3730.

• Regulation: 24 CFR 236.725

Project/Activity: Jersey City, New York (Unico Towers Apartments—Project Number 031-046NI). The Philadelphia Multifamily Hub requested approval to permit the continuation of Rental Assistance Payments (RAP) after the payoff of the non-insured Section 236 mortgage under a Section 8 Decoupling transaction.

Nature of the Requirement: HUD regulations at 24 CFR part 236 states that the rental assistance contract shall be limited to the term of the mortgage or 40 years from the date of the first payment made under the contract, whichever is lesser.

Granted by: Brian D. Montgomery, Assistant Secretary for Housing—Federal Housing Commissioner.

Date Granted: December 5, 2005.

Reason Waived: The waiver of the regulation was approved predicated on the project entering into a recorded use agreement that will restrict it to be operated under the Section 236 program requirements until the maturity date of the original non-insured Section 236 mortgage plus an additional five years. The project would generally terminate the rental assistance program (RAP) subsidy upon the prepayment of the non-insured Section 236 mortgage. Unico Towers is a 202-unit property that receives 190 units of RAP subsidy. The decoupling proposal did not request an increase in the Section 236 units; therefore, the RAP subsidy is not being increased. For these reasons, there is good cause to waive this regulation.

Contact: Beverly J. Miller, Director, Office of Asset Management, U.S. Department of Housing and Urban Development, 451 Seventh Street, SW., Room 6160, Washington, DC 20410; telephone: (202) 708-3730.

• Regulation: 24 CFR 236.725

Project/Activity: Jersey City, New York (Battery View Apartments—Project Number 031-060NI). The Philadelphia Multifamily Hub has requested approval of a waiver of this regulation to permit the continuation of the rental assistance payments (RAP) after the payoff of the non-insured Section 236 mortgage under a Section 236(e)(2) Decoupling transaction.

Nature of the Requirement: HUD regulations at 24 CFR Part 236 states that the rental assistance contract shall be limited to the term of the mortgage or 40 years from the date of the first payment made under the contract, whichever is lesser.

Granted by: Frank L. Davis, General Deputy Assistant Secretary for Housing-Deputy Federal Housing Commissioner.

Date Granted: December 5, 2006.

Reason Waived: The General Deputy Assistant Secretary for Housing approved waiver of the regulation predicated on the project entering into a recorded Use Agreement that will restrict it to be operated under the Section 236 program requirements until the maturity date of the original non-insured Section 236 mortgage plus an additional 5 years. The project would generally terminate the RAP subsidy upon the prepayment of the non-insured Section 236 mortgage. Battery View Apartments is a 238-unit property that receives 224 units of RAP subsidy. The Decoupling proposal did not request an increase in the Section 236 units; therefore, the RAP subsidy is not being increased. For these reasons, there is good cause to waive this regulation.

Contact: Beverly J. Miller, Director, Office of Asset Management, U.S. Department of Housing and Urban Development, 451 Seventh Street, SW., Room 6160, Washington, DC 20410; telephone (202) 708-3730.

• Regulation: 24 CFR 291.210

Project/Activity: Request for Authorization for Direct Sale of 7429 Hillsdale, St. Louis, Missouri. The request was received from the Denver Homeownership Center. In June 2004, HUD announced the Homewise Initiative (“Homewise”) as a partnership between the Department and the National Housing Endowment Corporation. The objective was to demonstrate that the public sector and the private sector could work together to revitalize neighborhoods. In March of 2005, HUD and the National Housing Endowment mutually agreed to terminate the Homewise agreement and HUD shifted its focus to the creation of local partnerships in each of the 10 cities to accomplish the original objectives.

Nature of Requirement: Section 291.210 permits direct sales at deep discounts off the list price of properties sold without mortgage insurance to governmental entities and private nonprofit organizations for use in HUD and local housing or homeless programs.

Granted By: Brian D. Montgomery, Assistant Secretary for Housing—Federal Housing Commissioner

Date Granted: December 22, 2005.

Reason Waived: In order to close out “Homewise” in St. Louis, the St Louis County, Office of Community Development submitted a request to purchase the subject property from HUD for $1. The County agreed to rehabilitate the property and pay all renovation expenses, including those already expended for lead-based paint removal. The County also agreed to sell the completed home at 50 percent of value to a qualified low- and moderate-income Homewise applicant. The direct sale of this property was determined in the best interest of HUD and resulted in the immediate disposition of the property.

Contact: Wanda Sampedro, Director of the Asset Management and Disposition Division, Department of Housing and Urban Development, 451 Seventh Street, SW., Washington, DC 20410-8000; telephone (202) 708-1672, ext. 2324.

• Regulation: 24 CFR 291.210

Project/Activity: Request for Authorization for Direct Sale of 7106 Avenue “F;”, Council Bluffs, Iowa. The request was received from the Santa Anna Homeownership Center.

Nature of Requirement: Section 291.210 permits direct sales at deep discounts off the list price of properties sold without mortgage insurance to governmental entities and private nonprofit organizations for use in HUD and local housing or homeless programs.

Granted By: Brian D. Montgomery, Assistant Secretary for Housing—Federal Housing Commissioner.

Date Granted: December 20, 2005.

Reason Waived: The city committed to use the property for a civic improvement, construction of a viaduct across the railway corridor that separates the west and east sides of the city. The direct sale of this property was determined in the best interest of HUD and resulted in the immediate disposition of the property. The Department may seek to dispose of properties through direct sales to other individuals or entities that do not meet any of the categories specified in 24 CFR 291.210.

Contact: Wanda Sampedro, Director of the Asset Management and Disposition Division, Department of Housing and Urban Development, 451 Seventh Street, SW., Washington, DC 20410-8000; telephone (202) 708-1672.

• Regulation: 24 CFR 291.210

Project/Activity: Request for Authorization for Direct Sale of 405 9th Avenue SE., Austin MN. The request was received from the Santa Anna Homeownership Center.

Nature of Requirement: Section 291.210 permits direct sales at deep discounts off the list price of properties sold without mortgage insurance to governmental entities and private nonprofit organizations for use in HUD and local housing or homeless programs.

Granted By: Brian D. Montgomery, Assistant Secretary for Housing—Federal Housing Commissioner.

Date Granted: December 21, 2005.

Reason Waived: The city committed to use the property for a civic improvement, enlargement of an existing park. The direct sale of this property was determined in the best interest of HUD and resulted in the immediate disposition of the property. In addition, this sale maximized the return to the insurance fund by mitigating the loss associated with the demolition, avoiding the potential of further unidentified conditions with the property and the savings associated with the normal disposition of properties. The Department may seek to dispose of properties through direct sales to other individuals or entities that do not meet any of the categories specified in 24 CFR 291.210.

Contact: Wanda Sampedro, Director of the Asset Management and Disposition Division, Department of Housing and Urban Development, 451 Seventh Street, SW., Washington, DC 20410-8000; telephone (202) 708-1672.

• Regulation: 24 CFR 291.210

Project/Activity: Request for Authorization for Direct Sale of 1563 Rockwood Street, Los Angeles, California. The request was received from the Santa Anna Homeownership Center.

Nature of Requirement: Section 291.210 permits direct sales at deep discounts off the list price of properties sold without mortgage insurance to governmental entities and private nonprofit organizations for use in HUD and local housing or homeless programs.

Granted By: Brian D. Montgomery, Assistant Secretary for Housing—Federal Housing Commissioner.

Date Granted: December 21, 2005.

Reason Waived: The property is located in a section of the community that the city has determined to be seriously underserved in the way of green space and recreational facilities. The direct sale of this property allowed the city to develop a neighborhood community park and was determined in the best interest of HUD and resulted in the immediate disposition of the property. In addition, this sale maximized the return to the insurance fund by mitigating the loss associated with the demolition, avoiding the potential of further unidentified conditions with the property and the savings associated with the normal disposition of properties.

Contact: Wanda Sampedro, Director of the Asset Management and Disposition Division, Department of Housing and Urban Development, 451 Seventh Street, SW., Washington, DC 20410-8000; telephone (202) 708-1672.

• Regulation: 24 CFR 291.210

Project/Activity: Request for Authorization for Direct Sale of 10440 18th Avenue South, Seattle, Washington. The request was received from the Denver Homeownership Center. In June 2004, HUD announced the Homewise Initiative (“Homewise”) as a partnership between the Department and the National Housing Endowment Corporation. The objective was to demonstrate that the public sector and the private sector could work together to revitalize neighborhoods. In March of 2005, HUD and the National Housing Endowment mutually agreed to terminate the Homewise agreement and HUD shifted its focus to the creation of local partnerships in each of the 10 cities to accomplish the original objectives.

Nature of Requirement: Section 291.210 permits direct sales at deep discounts off the list price of properties sold without mortgage insurance to governmental entities and private nonprofit organizations for use in HUD and local housing or homeless programs.

Granted By: Brian D. Montgomery, Assistant Secretary for Housing—Federal Housing Commissioner.

Date Granted: December 20, 2005.

Reason Waived: The city of Seattle and its partners, Habitat for Humanity and the Homestead Community Land Trust, agreed to rehabilitate the house, sell it to a low-income family. The direct sale of this property was in the best interest of the secretary and resulted in the immediate disposition of the property.

Contact: Wanda Sampedro, Director of the Asset Management and Disposition Division, Department of Housing and Urban Development, 451 Seventh Street, SW., Washington, DC 20410-8000; telephone (202) 708-1672.

• Regulation: 24 CFR 401.600

Project/Activity: The following projects requested waivers to the 12-month limit at above-market rents (24 CFR 401.600):

FHA No. | Project | State
01257247 | Washington Plaza | NY
01735226 | Talcott Gardens | CT
03135173 | Aspen Temple | NJ
04635520 | Miamisburg Manor | OH
06535307 | Apple Manor Apartments | MS
07335226 | Hammond Elderly Apartments | IN
11535245 | Castle Manor Apartments | TX
17144902 | Orchard Villa Apartments | ID

Nature of Requirement: Section 401.600 requires that projects be marked down to market rents within 12 months of their first expiration date after January 1, 1998. The intent of this provision is to ensure timely processing of requests for restructuring and that the properties will not default on their FHA insured mortgages during the restructuring process.

Granted By: Brian D. Montgomery, Assistant Secretary for Housing Federal Housing Commissioner.

Date Granted: November 23, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW, Washington, DC 20410-8000; telephone (202) 708-0614, ext.8371.

• Regulation: 24 CFR 401.600

Project/Activity: The following projects requested waivers to the 12-month limit at above-market rents (24 CFR 401.600):

FHA No. | Project | State
01335127 | Park Drive Manor II | NY
07344118 | Gardenside Terrace Cooperative I | IN
07344119 | Gardenside Terrace Cooperative II | IN
08535262 | JVL #16 | MO
05435343 | Manning Gardens | SC
01257324 | McGee Hill Apartments | NY

Nature of Requirement: Section 401.600 requires that projects be marked down to market rents within 12 months of their first expiration date after January 1, 1998. The intent of this provision is to ensure timely processing of requests for restructuring and that the properties will not default on their FHA insured mortgages during the restructuring process.

Granted By: Brian D. Montgomery, Assistant Secretary for Housing—Federal Housing Commissioner.

Date Granted: November 2, 2005.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410-8000; telephone (202) 708-0614, ext.8371.

• Regulation: 24 CFR 811.108(a)(3)

Project/Activity: White Plains, New York (Armory Plaza Apartments—Project Number 012-32230). The New York Multifamily Hub requested approval for use of excess bond reserve balances to help finance project repairs, instead of rebating these funds to HUD, as required by regulation.

Nature of Requirement: HUD's regulations at 24 CFR part 811 provide a basis for determining tax exemption of obligations issued by public housing agencies pursuant to Section 11(b) of the U.S. Housing Act of 1937 to refund bonds for Section 8 new construction or substantial rehabilitation projects. Section 811.108(a)(3) requires that upon full payment of the principal and interest on the obligations any funds remaining in the debt service reserve shall be remitted to HUD.

Granted By: Brian D. Montgomery, Assistant Secretary for Housing—Federal Housing Commissioner.

Date Granted: November 8, 2005.

Reason Waived: The waiver of this regulation was approved based on information concerning the urgent need for certain repairs at Armory Plaza Apartments from HUD's New York Multifamily Hub. The bonds were issued with HUD approval pursuant to 24 CFR part 8ll to refund prior bonds, which financed construction of Armory Plaza Apartments. Based on the immediate need for brick facade and window replacement, HUD agrees that the remaining bond reserves of 4160,000 should be used for capital improvements to preserve the physical integrity of Armory Plaza Apartments as an affordable housing resource.

Contact: Beverly J. Miller, Director, Office of Asset Management, U.S. Department of Housing and Urban Development, 451 Seventh Street, SW., Room 6160, Washington, DC 20410; telephone (202) 708-3730.

• Regulation: 24 CFR 891.100(d)

Project/Activity: LSS Housing Eau Claire, Eau Claire, WI, Project Number: 075-HD080/WI39-Q031-005.

Nature of Requirement: Section 891.100(d) prohibits amendment of the amount of the approved capital advance funds prior to initial closing.

Granted by: Brian D. Montgomery, Assistant Secretary for Housing—Federal Housing Commissioner.

Date Granted: October 5, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Villa Maria II, Birmingham, AL, Project Number: 062-EE064/AL09-S041-001.

Nature of Requirement: Section 891.100(d) prohibits amendment of the amount of the approved capital advance funds prior to initial closing.

Granted by: Brian D. Montgomery, Assistant Secretary for Housing—Federal Housing Commissioner.

Date Granted: October 5, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Ability First Apartments Irvine, Irvine, CA, Project Number: 143-HD011/CA43-Q001-001.

Nature of Requirement: Section 891.100(d) prohibits amendment of the amount of the approved capital advance funds prior to initial closing.

Granted by: Brian D. Montgomery, Assistant Secretary for Housing—Federal Housing Commissioner.

Date Granted: October 5, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: VOA Mora, Mora, MN, Project Number: 092-HD056/MN46-Q021-001.

Nature of Requirement: Section 891.100(d) prohibits amendment of the amount of the approved capital advance funds prior to initial closing.

Granted by: Brian D. Montgomery, Assistant Secretary for Housing—Federal Housing Commissioner.

Date Granted: October 12, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Hemlock Nob Estates, Tannersville, NY, Project Number: 014-EE209/NY06-S011-008.

Nature of Requirement: Section 891.100(d) prohibits amendment of the amount of the approved capital advance funds prior to initial closing.

Granted by: Brian D. Montgomery, Assistant Secretary for Housing—Federal Housing Commissioner.

Date Granted: October 12, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Windham Willows, Windham, NY, Project Number: 014-EE210/NY06-S011-009.

Nature of Requirement: Section 891.100(d) prohibits amendment of the amount of the approved capital advance funds prior to initial closing.

Granted by: Brian D. Montgomery, Assistant Secretary for Housing—Federal Housing Commissioner.

Date Granted: October 12, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Faith Residence Apartments, Belle Plaine, MN, Project Number: 092-HD059/MN46-Q021-004.

Nature of Requirement: Section 891.100(d) prohibits amendment of the amount of the approved capital advance funds prior to initial closing.

Granted by: Brian D. Montgomery, Assistant Secretary for Housing—Federal Housing Commissioner.

Date Granted: November 2, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Tri Cities Terrace South, Richland, WA, Project Number: 171-HD014/WA19-Q041-005.

Nature of Requirement: Section 891.100(d) prohibits amendment of the amount of the approved capital advance funds prior to initial closing.

Granted by: Brian D. Montgomery, Assistant Secretary for Housing—Federal Housing Commissioner.

Date Granted: November 3, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Sierra Gateway Senior Residence, Fresno, CA, Project Number: 121-EE169/CA39-S031-006.

Nature of Requirement: Section 891.100(d) prohibits amendment of the amount of the approved capital advance funds prior to initial closing.

Granted by: Brian D. Montgomery, Assistant Secretary for Housing—Federal Housing Commissioner.

Date Granted: November 9, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Village at Ascension Heights, Worcester, MA, Project Number: 023-EE168/MA06-S031-003.

Nature of Requirement: Section 891.100(d) prohibits amendment of the amount of the approved capital advance funds prior to initial closing.

Granted by: Brian D. Montgomery, Assistant Secretary for Housing—Federal Housing Commissioner.

Date Granted: November 9, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: San Lorenzo Terrace, Tampa, FL, Project Number: 067-EE131/FL29-S041-003.

Nature of Requirement: Section 891.100(d) prohibits amendment of the amount of the approved capital advance funds prior to initial closing.

Granted by: Brian D. Montgomery, Assistant Secretary for Housing—Federal Housing Commissioner.

Date Granted: November 10, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Abilities at English Park, Inc., Melbourne, FL, Project Number: 067-HD095/FL29-Q041-002.

Nature of Requirement: Section 891.100(d) prohibits amendment of the amount of the approved capital advance funds prior to initial closing.

Granted by: Brian D. Montgomery, Assistant Secretary for Housing—Federal Housing Commissioner.

Date Granted: November 16, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: St. Matthew Manor, Raynel, LA, Project Number: 064-HD081/LA48-Q031-007.

Nature of Requirement: Section 891.100(d) prohibits amendment of the amount of the approved capital advance funds prior to initial closing.

Granted by: Brian D. Montgomery, Assistant Secretary for Housing—Federal Housing Commissioner.

Date Granted: December 2, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: St. Mary Magdalene Apartments, New Iberia, LA, Project Number: 064-EE156/LA48-S031-010.

Nature of Requirement: Section 891.100(d) prohibits amendment of the amount of the approved capital advance funds prior to initial closing.

Granted by: Brian D. Montgomery, Assistant Secretary for Housing—Federal Housing Commissioner.

Date Granted: December 2, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Oberlin—VOA Living Center, Oberlin, LA, Project Number: 064-HD080/LA48-Q031-006.

Nature of Requirement: Section 891.100(d) prohibits amendment of the amount of the approved capital advance funds prior to initial closing.

Granted by: Brian D. Montgomery, Assistant Secretary for Housing—Federal Housing Commissioner.

Date Granted: December 2, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Mosaic Housing VII, Osceola, IA, Project Number: 074-HD025/IA05-Q031-001.

Nature of Requirement: Section 891.100(d) prohibits amendment of the amount of the approved capital advance funds prior to initial closing.

Granted by: Brian D. Montgomery, Assistant Secretary for Housing—Federal Housing Commissioner.

Date Granted: December 2, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Spruce Street Golden Manor, Nashville, TN, Project Number: 086-EE054/TN43-S041-003.

Nature of Requirement: Section 891.100(d) prohibits amendment of the amount of the approved capital advance funds prior to initial closing.

Granted by: Brian D. Montgomery, Assistant Secretary for Housing—Federal Housing Commissioner.

Date Granted: December 8, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Fayette Hills Unity, Oak Hill, WV, Project Number: 045-HD033/WV15-Q011-001.

Nature of Requirement: Section 891.100(d) prohibits amendment of the amount of the approved capital advance funds prior to initial closing.

Granted by: Brian D. Montgomery, Assistant Secretary for Housing—Federal Housing Commissioner.

Date Granted: December 9, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Montgomery Manor, Sardinia, OH, Project Number: 046-HD031/OH10-Q041-004.

Nature of Requirement: Section 891.100(d) prohibits amendment of the amount of the approved capital advance funds prior to initial closing.

Granted by: Brian D. Montgomery, Assistant Secretary for Housing—Federal Housing Commissioner.

Date Granted: December 9, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d)

Project/Activity: Malm Manor, Pawtucket, RI, Project Number: 016-HD044/RI43-Q031-003.

Nature of Requirement: Section 891.100(d) prohibits amendment of the amount of the approved capital advance funds prior to initial closing.

Granted by: Brian D. Montgomery, Assistant Secretary for Housing—Federal Housing Commissioner.

Date Granted: December 14, 2005.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: NCR of Oak Creek II, East Brunswick, NJ, Project Number: 031-EE062/NJ39-S031-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 28, 2005.

Reason Waived: The project is economically designed and comparable to similar projects in the area, and the sponsor/owner exhausted all efforts to obtain additional funding from other sources. The sponsor/owner required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: Haight Street Senior Housing, San Francisco, CA, Project Number: 121-EE165/CA39-S031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 15, 2005.

Reason Waived: The project is economically designed and comparable to similar projects in the area, and the sponsor/owner exhausted all efforts to obtain additional funding from other sources. The sponsor/owner required additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: Elm Court II, Princeton, NJ, Project Number: 035-EE048/NJ39-S031-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 18, 2005.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: AHEPA—Bluewater NW, Albuquerque, NM, Project Number: 116-EE032/NM16-S031-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 30, 2005.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: VOA Garland, Garland, TX, Project Number: 113-EE027/TX21-S021-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 2, 2005.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: Pear Grove, Houston, TX, Project Number: 114-HD027/TX24-Q031-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 2, 2005.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d). and 24 CFR 891.165

Project/Activity: Haley's Park, Nashville, TN, Project Number: 086-HD033/TN033-Q031-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 7, 2005.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d). and 24 CFR 891.165

Project/Activity: Point Church Place, Memphis, TN, Project Number: 081-HD018/TN40-Q021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 7, 2005.

Reason Waived: The project is economically designed and comparable to similar projects in the area, and the sponsor/owner exhausted all efforts to obtain additional funding from other sources. The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.100(d). and 24 CFR 891.165

Project/Activity: The Upper Rooms, Pittsburgh, PA, Project Number: 033-EE114/PA28-S031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 14, 2005.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d). and 24 CFR 891.165

Project/Activity: Woodlands Elder Housing, The Woodlands, TX, Project Number: 114-EE106/TX24-S031-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 16, 2005.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d) and 24 CFR 891.165

Project/Activity: San Antonio VOA Elderly Housing, San Antonio, TX, Project Number: 115-EE067/TX59-S031-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22, 2005.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.100(d).and 24 CFR 891.165

Project/Activity: San Antonio VOA Living Center, San Antonio, TX, Project Number: 115-HD040/TX59-Q031-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22, 2005.

Reason Waived: The project is economically designed and comparable to similar projects in the area, and the sponsor/owner exhausted all efforts to obtain additional funding from other sources. The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Windham Willows, Windham, NY, Project Number: 014-EE210/NY06-S011-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 5, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Unity Gardens Senior Apartments, Windham, ME, Project Number: 024-EE053/ME36-S001-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 6, 2005.

Reason Waived: The sponsor/owner needed additional time to finalize some legal documents.

Contact: Willie Spearmon, Director, Office of Housing Assistance and Grant Administration, Department of Housing and Urban Development, 451 Seventh Street, SW., Washington, DC 20410-8000, telephone (202) 708-3000.

• Regulation: 24 CFR 891.165

Project/Activity: Volunteers of America, Mora, Mora, MN, Project Number: 092-HD056/MN46-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 11, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Point Church Place, Memphis, TN, Project Number: 081-HD018/TN40-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 12, 2005.

Reason Waived: The Sponsor/owner needed additional time to issue the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Cecilian Village, Philadelphia, PA, Project Number: 034-EE121/PA26-S021-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 12, 2005.

Reason Waived: The sponsor/owner needed additional time to resolve issues with the survey of the parcel and the local municipality.

Contact: Willie Spearmon, Director, Office of Housing Assistance and Grant Administration, Department of Housing and Urban Development, 451 Seventh Street, SW., Washington, DC 20410-8000, telephone (202) 708-3000.

• Regulation: 24 CFR 891.165

Project/Activity: Nanaikeola Senior Apartments, Waianae, HI, Project Number: 140-EE019/HI10-S991-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 19, 2005.

Reason Waived: Additional time was needed to secure secondary financing and to issue the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Vernon Senior Housing, Vernon, VT, Project Number: 024-EE068/VT36-S021-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 19, 2005.

Reason Waived: Additional time was needed to drill and test three wells in order to receive a permit under the State of Vermont's Act 250.

Contact: Willie Spearmon, Director, Office of Housing Assistance and Grant Administration, Department of Housing and Urban Development, 451 Seventh Street, SW., Washington, DC 20410-8000, telephone (202) 708-3000.

• Regulation: 24 CFR 891.165

Project/Activity: Gulfport Manor, Gulfport, MS, Project Number: 065-EE031-MS26-S001-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 26, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Harvey II, Harvey, IL, Project Number: 071-EE174/IL06-S021-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 27, 2005.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Whalley Avenue Housing II, New Haven, CT, Project Number: 017-HD031/CT26-Q01-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 27, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Victor Hernandez Building, Aguadilla, PR, Project Number: 056-EE045/RQ46-S021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 27, 2005.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165

Project Activity: Gardens at Immanuel House, New Haven, CT, Project Number: 017-EE071/CT26-S021-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: October 27, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project Activity: Woonsocket Neighborhood Development, North Smithfield, RI, Project Number: 016-EE046/RI43-S021-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 2, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Barnes School Elderly Housing, East Boston, MA, Project Number: 023-EE153/MA06-S021-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 3, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project Activity: Green Garden Apartments, Lockport, IL, Project Number: 071-HD129/IL06-Q021-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 8, 2005.

Reason Waived: The sponsor/owner needed additional time to select a new contractor and to submit the firm commitment application.

Contact: Willie Spearmon, Director, Office of Housing Assistance and Grant Administration, Department of Housing and Urban Development, 451 Seventh Street, SW., Washington, DC 20410-8000, telephone (202) 708-3000.

• Regulation: 24 CFR 891.165

Project Activity: Sahara Senior Villas, Hemet, CA, Project Number: 143-EE054/CA43-S031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 9, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: St. George Housing Corporation, Superior, WI, Project Number: 075-HD074/WI39-Q021-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 10, 2005.

Reason Waived: The sponsor/owner needed additional time to process the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Residence Connection a/k/a Wood County Village, Bowling Green, OH, Project Number: 042-HD111/OH12-Q021-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 15, 2005.

Reason Waived: The sponsor/owner needed additional time to resolve concerns prior to initial closing.

Contact: Willie Spearmon, Director, Office of Housing Assistance and Grant Administration, Department of Housing and Urban Development, 451 Seventh Street, SW., Washington, DC 20410-8000, telephone (202) 708-3000.

• Regulation: 24 CFR 891.165

Project/Activity: Fox Creek II, Akron, OH, Project Number: 042-HD116/OH12-Q031-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 15, 2005.

Reason Waived: The sponsor/owner needed additional time to submit the firm commitment application after site change approval.

Contact: Willie Spearmon, Director, Office of Housing Assistance and Grant Administration, Department of Housing and Urban Development, 451 Seventh Street, SW., Washington, DC 20410-8000, telephone (202) 708-3000.

• Regulation: 24 CFR 891.165

Project/Activity: Fox Creek I, Akron, OH, Project Number: 042-HD117/OH12-Q031-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 15, 2005.

Reason Waived: The sponsor/owner needed additional time to submit the firm commitment application after site change approval.

Contact: Willie Spearmon, Director, Office of Housing Assistance and Grant Administration, Department of Housing and Urban Development, 451 Seventh Street, SW., Washington, DC 20410-8000, telephone (202) 708-3000.

• Regulation: 24 CFR 891.165

Project/Activity: Goodman Lake Housing Corporation, Richland Center, WI, Project Number: 075-EE126/WI39-S031-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 16, 2005.

Reason Waived: The sponsor/owner needed additional time to submit the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Pensacola Retirement Village IV, Pensacola, FL, Project Number: 063-EE035/FL29-S031-014.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 16, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Providence Senior Housing, San Francisco, CA, Project Number: 121-EE164/CA39-S031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 17, 2005.

Reason Waived: The sponsor/owner needed additional time to select a new contractor.

Contact: Willie Spearmon, Director, Office of Housing Assistance and Grant Administration, Department of Housing and Urban Development, 451 Seventh Street, SW., Washington, DC 20410-8000, telephone (202) 708-3000.

• Regulation: 24 CFR 891.165

Project/Activity: Mar Vista House, Oceanside, CA, Project Number: 129-HD027/CA33-Q021-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 17, 2005.

Reason Waived: The sponsor/owner needed additional time to submit the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Hungry Run Housing Corporation, Rib Lake, WI, Project Number: 075-Ee124/WI39-S031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 18, 2005.

Reason Waived: The sponsor/owner needed additional time to achieve initial closing.

Contact: Willie Spearmon, Director, Office of Housing Assistance and Grant Administration, Department of Housing and Urban Development, 451 Seventh Street, SW., Washington, DC 20410-8000, telephone (202) 708-3000.

• Regulation: 24 CFR 891.165

Project/Activity: Marshall Road, Wellesley, MA, Project Number: 023-HD181/MA06-Q011-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2005.

Reason Waived: The sponsor/owner needed additional time to resolve some funding issues.

Contact: Willie Spearmon, Director, Office of Housing Assistance and Grant Administration, Department of Housing and Urban Development, 451 Seventh Street, SW., Washington, DC 20410-8000, telephone (202) 708-3000.

• Regulation: 24 CFR 891.165

Project/Activity: Harvey II, Harvey, IL, Project Number: 071-EE174/IL06-S021-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Cedars II, Methuen, MA, Project Number: 023-EE109/MA06-S991-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: McDowell County Housing Action Network, War, WV, Project Number: 045-Ee015/WV15-S011-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2005.

Reason Waived: The sponsor/owner needed additional time to revise plans and specifications to lower construction cost.

Contact: Willie Spearmon, Director, Office of Housing Assistance and Grant Administration, Department of Housing and Urban Development, 451 Seventh Street, SW., Washington, DC 20410-8000, telephone (202) 708-3000.

• Regulation: 24 CFR 891.165

Project/Activity: LSS Housing Eau Claire, Eau Claire, WI, Project Number: 075-HD080/WI39-Q031-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Laurel Place, West Hollywood, CA, Project Number: 122-EE187/CA16-S031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 21, 2005.

Reason Waived: The sponsor/owner needed additional time to secure approval from the planning commission.

Contact: Willie Spearmon, Director, Office of Housing Assistance and Grant Administration, Department of Housing and Urban Development, 451 Seventh Street, SW., Washington, DC 20410-8000, telephone (202) 708-3000.

• Regulation: 24 CFR 891.165

Project/Activity: Del-Mor Dwellings, Bucyrus, OH, Project Number: 042-HD113/OH12-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 23, 2005.

Reason Waived: The sponsor/owner needed additional time to submit the firm commitment application.

Contact: Willie Spearmon, Director, Office of Housing Assistance and Grant Administration, Department of Housing and Urban Development, 451 Seventh Street, SW., Washington, DC 20410-8000, telephone (202) 708-3000.

• Regulation: 24 CFR 891.165

Project/Activity: TBD, West Allis, WI, Project Number: 075-EE127/WI39-S031-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: November 30, 2005.

Reason Waived: The sponsor/owner needed additional time to secure another site.

Contact: Willie Spearmon, Director, Office of Housing Assistance and Grant Administration, Department of Housing and Urban Development, 451 Seventh Street, SW., Washington, DC 20410-8000, telephone (202) 708-3000.

• Regulation: 24 CFR 891.165

Project/Activity: Harvard Square, Irvine, CA, Project Number: 143-HD011/CA43-Q001-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 1, 2005.

Reason Waived: The sponsor/owner needed additional time to reprocess the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Delta Partners Manor II, Drew, MS, Project Number: 065-EE041/MS26-S031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 1, 2005.

Reason Waived: The sponsor/owner needed additional time to submit the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Woodside Village, Toledo, OH, Project Number: 042-HD112/OH12-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 2, 2005.

Reason Waived: The sponsor/owner needed additional time to reprocess the firm commitment application and to receive an answer from Asset Management regarding a partial release of security.

Contact: Willie Spearmon, Director, Office of Housing Assistance and Grant Administration, Department of Housing and Urban Development, 451 Seventh Street, SW., Washington, DC 20410-8000, telephone (202) 708-3000.

• Regulation: 24 CFR 891.165

Project/Activity: Wills Manor, Los Angeles, CA, Project Number: 122-HD161/CA16-Q031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 2, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Grace Manor, Inglewood, CA, Project Number: 122-HD159/CA16-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 2, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: VOA Sandusky, Sandusky, OH, Project Number: 042-HD110/OH12-Q021-008.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 6, 2005

Reason Waived: The sponsor/owner needed additional time to select another contractor and for HUD to reprocess the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Meadowlark Apartments, Oregon City, OR, Project Number: 126-HD038/OR16-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 7, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Sierra Gateway Senior Residence, Fresno, CA, Project Number: 121-Ee169/CA39-S031-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 7, 2005.

Reason Waived: The sponsor/owner needed additional time to receive approval from the City of Fresno regarding the split of a lot.

Contact: Willie Spearmon, Director, Office of Housing Assistance and Grant Administration, Department of Housing and Urban Development, 451 Seventh Street, SW., Washington, DC 20410-8000, telephone (202) 708-3000.

• Regulation: 24 CFR 891.165

Project/Activity: Allies Homes, Brick, NJ, Project Number: 035-HD054/NJ39-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 7, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: McTaggert II, Akron, OH, Project Number: 02-HD096/OH12-Q011-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 7, 2005.

Reason Waived: The sponsor/owner needed additional time due to site change.

Contact: Willie Spearmon, Director, Office of Housing Assistance and Grant Administration, Department of Housing and Urban Development, 451 Seventh Street, SW., Washington, DC 20410-8000, telephone (202) 708-3000.

• Regulation: 24 CFR 891.165

Project/Activity: Olgonikgum Uttuganaknich Senior Housing, Wainwright, AK, Project Number: 176-EE031/AK06-S021-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 8, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Tikagaqmiut Senior Housing, Point Hope, AK, Project Number: 176-EE029/AK06-S021-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 8, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Utuqqanaaqagvik Senior Housing, Nuiqsut, AK, Project Number: 176-EE033/AK06-S021-008.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 8, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Aaniyak Senior Housing, Anaktuvuk Pass, AK, Project Number: 176-EE030/AK06-S021-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 8, 2005.

Reason Waived: The sponsor/owner needed additional time to prepare for initial closing.

Contact: Willie Spearmon, Director, Office of Housing Assistance and Grant Administration, Department of Housing and Urban Development, 451 Seventh Street, SW., Washington, DC 20410-8000, telephone (202) 708-3000.

• Regulation: 24 CFR 891.165

Project/Activity: Kaktovik Senior Housing, Kaktovik, AK, Project Number:

176-EE032/AK06-S021-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 9, 2005.

Reason Waived: The sponsor/owner needed additional time to prepare for initial closing.

Contact: Willie Spearmon, Director, Office of Housing Assistance and Grant

Administration, Department of Housing and Urban Development, 451 Seventh Street, SW., Washington, DC 20410-8000, telephone (202) 708-3000.

• Regulation: 24 CFR 891.165

Project/Activity: Providence Place, Salem, OR, Project Number: 126-Ee049/OR16-S031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 12, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Anixter Village, Chicago, IL, Project Number: 071-HD128/IL06-Q021-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 12, 2005.

Reason Waived: The sponsor/owner needed additional time to secure secondary financing.

Contact: Willie Spearmon, Director, Office of Housing Assistance and Grant Administration, Department of Housing and Urban Development, 451 Seventh Street, SW., Washington, DC 20410-8000, telephone (202) 708-3000.

• Regulation: 24 CFR 891.165

Project/Activity: Cheyenne Senior Housing, Inc., Cheyenne, WY, Project Number: 109-Ee012/WY99-S031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 16, 2005.

Reason Waived: The sponsor/owner needed additional time to submit corrections to the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Cleveland Christian Home II, Cleveland, OH, Project Number: 042-HD115/OH12-Q031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 20, 2005.

Reason Waived: The sponsor/owner needed additional time to secure a new contractor.

Contact: Willie Spearmon, Director, Office of Housing Assistance and Grant Administration, Department of Housing and Urban Development, 451 Seventh Street, SW., Washington, DC 20410-8000, telephone (202) 708-3000.

• Regulation: 24 CFR 891.165

Project/Activity: Independence IV Consumer Home, Delran, NJ, Project Number: 035-HD055/NJ39-Q031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 20, 2005.

Reason Waived: The sponsor/owner needed additional time to issue the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Guadalupe I & II, Austin, TX, Project Number: 115-HD041/TX59-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 20, 2005.

Reason Waived: The sponsor/owner needed additional time to secure amendment funds.

Contact: Willie Spearmon, Director, Office of Housing Assistance and Grant Administration, Department of Housing and Urban Development, 451 Seventh Street, SW., Washington, DC 20410-8000, telephone (202) 708-3000.

• Regulation: 24 CFR 891.165

Project/Activity: SHDC No. 11, Kaneohe, HI, Project Number: 140-HD029/HI10-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 21, 2005.

Reason Waived: The sponsor/owner needed additional time due to a site change.

Contact: Willie Spearmon, Director, Office of Housing Assistance and Grant Administration, Department of Housing and Urban Development, 451 Seventh Street, SW., Washington, DC 20410-8000, telephone (202) 708-3000.

• Regulation: 24 CFR 891.165

Project/Activity: Donald W. Kent Residences, Northlake, IL, Project Number: 071-EE187/IL06-S031-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 21, 2005.

Reason Waived: The sponsor/owner needed additional time due to legal issues.

Contact: Willie Spearmon, Director, Office of Housing Assistance and Grant Administration, Department of Housing and Urban Development, 451 Seventh Street, SW., Washington, DC 20410-8000, telephone (202) 708-3000.

• Regulation: 24 CFR 891.165

Project/Activity: Faith Residence Apartments, Belle Plaine, MN, Project Number: 092-HD059/MN46-Q021-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 21, 2005.

Reason Waived: The sponsor/owner needed additional time to issue the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Somerset 2003 Consumer Home, Green Brook Twp., NJ, Project Number: 031-HD136/NJ39-Q031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22, 2005.

Reason Waived: The sponsor/owner needed additional time due to a site change.

Contact: Willie Spearmon, Director, Office of Housing Assistance and Grant Administration, Department of Housing and Urban Development, 451 Seventh Street, SW., Washington, DC 20410-8000, telephone (202) 708-3000.

• Regulation: 24 CFR 891.165

Project/Activity: NJCDC Supportive Housing 2002, Hawthorne, NJ, Project Number: 031-HD135/NJ39-Q021-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22, 2005.

Reason Waived: The sponsor/owner needed additional time to issue the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Columbia Supportive Living, Knowlton, NJ, Project Number: 031-HD131/NJ39-Q021-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22, 2005.

Reason Waived: The sponsor/owner needed additional time to secure approval from the New Jersey Department of Environmental Protection and to complete the septic system design.

Contact: Willie Spearmon, Director, Office of Housing Assistance and Grant Administration, Department of Housing and Urban Development, 451 Seventh Street, SW., Washington, DC 20410-8000, telephone (202) 708-3000.

• Regulation: 24 CFR 891.165

Project/Activity: AHEPA 296 Apartments, Pensacola, FL, Project Number: 063-EE032/FL29-S031-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22 2005.

Reason Waived: The sponsor/owner needed additional time to rebid the construction contract.

Contact: Willie Spearmon, Director, Office of Housing Assistance and Grant Administration, Department of Housing and Urban Development, 451 Seventh Street, SW., Washington, DC 20410-8000, telephone (202) 708-3000.

• Regulation: 24 CFR 891.165

Project/Activity: The Arc of Cape May Housing, Woodbine (Eldora), NJ, Project Number: 035-HD053/NJ39-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 22, 2005.

Reason Waived: The sponsor/owner needed additional time to issue to the firm commitment application.

Contact: Willie Spearmon, Director, Office of Housing Assistance and Grant Administration, Department of Housing and Urban Development, 451 Seventh Street, SW., Washington, DC 20410-8000, telephone (202) 708-3000.

• Regulation: 24 CFR 891.165

Project/Activity: Sanchez Project, Middlebury, VT, Project Number: 024-HD044/VT36-Q031-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: December 23, 2005.

Reason Waived: The sponsor/owner needed additional time to issue the firm commitment application.

Contact: Willie Spearmon, Director, Office of Housing Assistance and Grant Administration, Department of Housing and Urban Development, 451 Seventh Street, SW., Washington, DC 20410-8000, telephone (202) 708-3000.

• Regulation: 24 CFR 891.170

Project/Activity: Vernon Senior Housing, Vernon, VT, Project Number: 024-EE068/VT36-S021-002.

Nature of Requirement: Section 891.170 provides that the capital advance shall bear no interest and its repayment shall not be required as long as the housing project remains in continued operation for not less than 40 years and remains available for very low-income elderly families or persons with disabilities.

Granted by: Brian D. Montgomery, Assistant Secretary for Housing—Federal Housing Commissioner.

Date Granted: October 19, 2005.

Reason Waived: The waiver was granted to permit HUD's mortgage to be subordinate to VHFA's Deed of Trust provided that HUD's Use Agreement and Regulatory Agreement are recorded prior to VHFA's Deed of Trust.

Contact: Willie Spearmon, Director, Office of Housing Assistance and Grant Administration, Department of Housing and Urban Development, 451 Seventh Street, SW., Washington, DC 20410-8000, telephone (202) 708-3000.

• Regulation: 24 CFR 891.410(c)

Project/Activity: Waukesha, Wisconsin (Sunset Heights—Project Number 075-EE036). The Milwaukee Multifamily Program Center requested a waiver of the age and income requirements for the project to alleviate occupancy problems at the property.

Nature of Requirement: HUD regulations at 24 CFR 891 require occupancy to be limited to Very Low Income (VLI) elderly persons (i.e., households composed of one or more persons at least one of whom is 62 years of age at the time of initial occupancy). The regulations also require that an owner is to determine the eligibility in selecting tenants.

Granted By: Brian D. Montgomery, General Deputy Assistant Secretary for Housing—Federal Housing Commissioner.

Date Granted: October 19, 2005.

Reason Waived: The granting of this regulatory waiver allowed the project owner flexibility in renting up vacant units to individuals who meet the definition of non elderly (persons between the ages of 55 and 62 years). With these efforts, the owner was able to achieve full occupancy and avoid financial hardship.

Contact: Beverly J. Miller, Director, Office of Asset Management, Department of Housing and Urban Development, 451 Seventh Street, SW., Room 6160, Washington, DC 20410-7000; telephone (202) 708-3730.

• Regulation: 24 CFR 891.410(c)

Project/Activity: Wingo, Kentucky (Wingo Elderly Housing-Project Number 083-EE066). The Louisville Multifamily Program Center requested an age and income waiver for the subject project because the current occupancy level will not support the project.

Nature of Requirement: HUD regulations at 24 CFR 891 requires occupancy to be limited to Very Low Income (VLI) elderly persons (i.e., households composed of one or more persons at least one of whom is 62 years of age at the time of initial occupancy). The regulations also require that an owner is to determine the eligibility in selecting tenants.

Granted By: Brian D. Montgomery, Assistant Secretary for Housing—Federal Housing Commissioner.

Date Granted: December 22, 2005.

Reason Waived: The granting of the regulatory waiver allowed flexibility in renting up this Section 202/8 Supportive Housing for the Elderly project, with a Project Rental Assistance Contract (PRAC). This 12-unit property is located in the small community of Wingo, Kentucky. Full occupancy had not been attained despite the management agent's extensive outreach and marketing efforts to attract eligible individuals. Waiver of the elderly and very-low income requirement alleviated the current occupancy and financial problems at the property.

Contact: Beverly J. Miller, Director, Office of Asset Management, U.S. Department of Housing and Urban Development, 451 Seventh Street, SW., Room 6160, Washington, DC 20410-7000; telephone (202) 708-3730.

• Regulation: 24 CFR 891.410(c)

Project/Activity: Wilbraham, Massachusetts (Falcon Housing a.k.a. Falcon Knoll). The Boston Multifamily Hub requested a waiver of the very-low income requirement for five residents of the subject property.

Nature of Requirement: HUD regulations at 24 CFR part 891 require occupancy to be limited to Very Low Income (VLI) elderly persons (i.e., households composed of one or more persons at least one of whom is 62 years of age at the time of initial occupancy). The regulations also require that an owner is to determine the eligibility in selecting tenants.

Granted By: Brian D. Montgomery, Assistant Secretary for Housing—Federal Housing Commissioner.

Date Granted: December 2, 2005.

Reason Waived: An exception was granted to the very-low income requirement for five residents who were admitted to the property on initial rent-up. A consultant was hired to process rental applications and they erroneously used adjusted income to determine five applicant's very-low income eligibility. It was later discovered this was incorrect and the practice was stopped. The five over-income applicants now reside at Falcon Housing. They are listed as low-income tenants. If the waiver had not been granted, the owner would have been required to remove the tenants from their units. Also, there are not a sufficient number of very-low income applicants. This approval enabled the owner to receive PRAC assistance for the five very-low tenants and assist in the continued viability of this new project. This waiver is for the subject property only and may not be applied to additional properties without consulting Housing Headquarters.

Contact: Beverly J. Miller, Director, Office of Asset Management, U.S. Department of Housing and Urban Development, 451 Seventh Street, SW., Room 6160, Washington, DC 20410-7000; telephone (202) 708-3730.

• Regulation: 24 CFR 891.410(c)

Project/Activity: Rhinelander, Wisconsin (Sumac Trail Apartments—Project Number 075-HD050. The Milwaukee Multifamily Program Center requested a waiver of the age and very-low income requirement for the subject property due to occupancy problems.

Nature of Requirement: HUD regulations at 24 CFR 891 requires occupancy to be limited to Very Low Income (VLI) elderly persons (i.e., households composed of one or more persons at least one of whom is 62 years of age at the time of initial occupancy). The regulations also require that an owner is to determine the eligibility in selecting tenants.

Granted By: Brian D. Montgomery, Assistant Secretary for Housing—Federal Housing Commissioner.

Date Granted: December 2, 2005.

Reason Waived: The granting of the waiver of the very-low income requirement alleviated the current occupancy problem. The occupancy level would not have supported the operations of the project. Management continued to aggressively advertise and market the property to no avail. The granting of the waiver allowed the owner additional flexibility in attempting to rent vacant units and perhaps start a waiting list.

Contact: Beverly J. Miller, Director, Office of Asset Management, U.S. Department of Housing and Urban Development, 451 Seventh Street, SW., Room 6l60, Washington, DC 20410-7000; telephone (202) 708-3730.

• Regulation: 24 CFR 891.410(c)

Project/Activity: Warden, Washington (Fairview Senior Housing-Project Number 171-EE009). The Northwest/Alaska Multifamily Hub requested waiver of the age and income restriction for the subject Section 202/8 Supportive Housing for the Elderly project with a Project Rental Assistance Contract (PRAC).

Nature of Requirement: HUD regulations at 24 CFR part 891 require occupancy to be Limited to Very Low Income (VLI) elderly persons (i.e., households composed of one or more persons at least one of whom is 62 years of age at the time of initial occupancy). The regulations also require that an owner is to determine the eligibility in selecting tenants.

Granted By: Brian D. Montgomery, Assistant Secretary for Housing—Federal Housing Commissioner.

Date Granted: December 2, 2005.

Reason Waived: The granting of a waiver of the age and income restriction was determined appropriate because the project had experienced occupancy problems since initial rent-up in August 1998. The project was operating at a 55 percent vacancy rate. When this project was first built there was a clinic and drugstore located nearby; however, both businesses are now closed. The lack of clinical facilities and a pharmacy make the area surrounding the property unattractive to the elderly. The closest medical facility or pharmacy is located 20 miles from the property. Waiver of the age and income restrictions alleviated the occupancy problems the project was experiencing and helped the property achieve full occupancy.

Contact: Beverly J. Miller, Director, Office of Asset Management, U.S. Department of Housing and Urban Development, 451 Seventh Street, SW., Room 6l60, Washington, DC 20410-7000; telephone (202) 708-3730.

III. Regulatory Waivers Granted by the Office of Public and Indian Housing

For further information about the following regulatory waivers, please see the name of the contact person that immediately follows the description of the waiver granted.

• Regulation: 24 CFR part 5 and 24 CFR Chapter IX

Project/Activity: The PHAs identified in Table 1, are all located within a presidentially declared disaster area as a result of damages caused by Hurricane Katrina or Hurricane Rita, or both, and each PHA notified HUD of the need for one or more regulatory waivers made available to PHAs in Hurricane Katrina and Hurricane Rita disaster areas by two Federal Register notices. The first notice is “Regulatory and Administrative Waivers Granted for Public and Indian Housing Programs to Assist with Recovery and Relief in Hurricane Katrina Disaster Areas,” signed September 27, 2005, and published in the Federal Register on October 3, 2005 (70 FR 57716), and the second notice is “Regulatory and Administrative Waivers Granted for Public and Indian Housing Programs to Assist with Recovery and Relief in Hurricane Rita Disaster Areas; and Additional Administrative Relief for Hurricane Katrina,” signed October 25, 2005, and published in the Federal Register on November 1, 2005 (70 FR 66222):

Nature of Requirements: The two Federal Register notices provided for waiver of the following regulations in 24 CFR part 5 and 24 CFR Chapter IX for those PHAs in the disaster areas that notified HUD through a special waiver request process designed to expedite both the submission of regulatory requests to HUD and HUD's response to the request.

1. 24 CFR 5.216(g)(5) (Disclosure and Verification of Social Security and Employer Identification Numbers);

2.24 CFR 5.512(c) (Verification of Eligible Immigration Status; Secondary Verification);

3. 24 CFR 5.801(c) and 5.801(d) (Uniform Financial Reporting Standards (UFRS));

4. 24 CFR 902 (Public Housing Assessment System (PHAS));

5. 24 CFR 903.5 (Annual Plan Submission Deadline);

6. 24 CFR 905.10(i) (Capital Fund Formula; Limitation of Replacement Housing Funds to New Development);

7. 24 CFR 941.306 (Maximum Project);

8. 24 CFR 965.302 (Requirement for Energy Audits);

9. 24 CFR 982.54 (Administrative Plan);

10. 24 CFR 982.206 (Waiting List; Opening and Public Notice);

11. 24 CFR 982.401(d) (Housing Quality Standards; Space Requirements);

12. 24 CFR 982.503(b) (Waiver of payment standard; Establishing Payment Standard; Amounts);

13. 24 CFR 984.303 (Contract of Participation; Family Self-Sufficiency (FSS) Program; Extension of Contract) and 24 CFR 984.105 (Minimum Payment Size);

14. 24 CFR part 985 (Section 8 Management Assessment Program (SEMAP)); and

15. 24 CFR 990.145 (Dwelling Units with Approved Vacancies).

Both Federal Register notices described the regulatory requirement in detail and the period of suspension or alternative compliance date.

Granted By: Roy A. Bernardi, Deputy Secretary by the October 3, 2005, and November 1, 2005, Federal Register notices.

Date Granted: Please refer to Table 1. Table 1 identifies PHAs that have requested and were granted the regulatory waivers made available through the two Federal Register notices. The table identifies by number (as listed in the Federal Register notices) the regulatory waivers granted to each PHA and also identifies whether the PHA was located in a Hurricane Katrina or Hurricane Rita disaster area, or both.

Reason waived: The regulations waived in the October 3, 2005, and November 1, 2005, Federal Register notices were waived to facilitate the delivery of safe and decent housing under HUD's Public Housing programs to families and individuals that were displaced from their housing as a result of the hurricanes.

Contacts: Reference the items numbers with the items identified in the aforementioned “Nature of Requirements” section for the following contacts:

• Requirements 1, 2 and 8—Patricia S. Arnaudo, Director, Public Housing Management and Occupancy Division, Office of Public Housing and Voucher Programs, Office of Public and Indian Housing, Department of Housing and Urban Development, 451 Seventh Street, SW., Room 4222, Washington, DC 20410-5000, telephone (202) 708-0744;

• Requirements 3, 4 and 15—Wanda F. Funk, Senior Advisor, Real Estate Assessment Center, Office of Public and Indian Housing, Department of Housing and Urban Development, 550 12th Street, SW., Suite 100, Washington, DC 20410-5000, telephone (202) 475-8736;

• Requirement 5—Merrie Nichols-Dixon, Division Director, Compliance and Coordination Division, Office of Field Operations, Office of Public and Indian Housing, Department of Housing and Urban Development, 451 Seventh Street, SW., Room 4112, Washington, DC 20410-5000, telephone (202) 708-4016.

• Requirements 6 and 7—William C. Thorson, Director, Capital Fund Division, Public Housing Investments, Office of Public and Indian Housing, Department of Housing and Urban Development, 451 Seventh Street, SW., Room 4146, Washington, DC 20410-5000, telephone (202) 708-1640;

• Requirements 9-14—Alfred C. Jurison, Director, Housing Voucher Management and rations Division, Office of Public Housing and Voucher Programs, Office of Public and Indian Housing, Department of Housing and Urban Development, 451 Seventh Street, SW., Room 4210, Washington, DC 20410-5000, telephone (202) 708-0477.

Table 1
PHA Code | PHA name and hurricane disaster area (K) and (R) indicate whether the PHA was located in hurricane Katrina or Rita disaster area or both | Regulatory waivers granted | Date acceptable notification received
LA001 | Housing Authority of New Orleans (K) | 1 through 15 | 10/21/05
LA003 | East Baton Rouge Parish Housing Authority (K) | 15 | 10/27/05
LA004 | Lake Charles Housing Authority (K) (R) | 1-4, 8-15 | 11/22/05
LA005 | Lafayette Parish Housing Authority (K) | 1 through 15 | 10/12/05
LA011 | Westwego Housing Authority (K) | 2, 3, 4, 15 | 11/29/05
LA012 | Housing Authority of Kenner (K) | 1-5, 9-11, 15 | 11/2/05
LA013 | Jefferson Parish Housing Authority (K) | 1-5, 8-15 | 10/21/05
LA024 | Bogalusa Housing Authority (K) | 4, 8, 14 | 10/6/05
LA026 | Kaplan Housing Authority (K) (R) | 4 | 11/21/05
LA029 | Crowley Housing Authority (K) (R) | 1 through 15 | 10/12/05
LA036 | Morgan City Housing Authority (K) (R) | 3, 4, 8, 11, 14, 15 | 11/30/05
LA043 | Donaldsonville Housing Authority (K) | 1, 2, 5, 8, 14 | 10/5//05
LA070 | Housing Authority of the Town of Patterson (K) (R) | 3, 4 | 10/18/05
LA076 | Ferriday Housing Authority (K) | 4 | 12/30/05
LA080 | Housing Authority of Lafourche Parish (K) (R) | 1-3, 8-11, 13, 14 | 11/16/05
LA090 | Houma-Terrebonne Housing Authority (K) (R) | 4, 5, 8 | 11/4/05
LA090 | Houma-Terrebonne Housing Authority (K) (R) | 6, 7 | 12/5/05
LA092 | St. James Parish Housing Authority (K) | 1, 4, 8, 9, 10 | 11/29/05
LA094 | St. Charles Parish Housing Authority | 3, 4, 11 | 11/9/05
LA095/LA181 | Housing Authority of St. John the Baptist Parish (K) | 1-5, 8, 9, 12, 14, 15 | 10/21/05
LA103/LA254 | Slidell Housing Authority (K) | 5, 9 | 12/12/05
LA122 | Colfax Housing Authority (K) | 3, 4 | 12/21/05
LA132 | Avoyelles Parish Section 8 Program (K) | 5, 9-14 | 10/3/05
LA215 | Assumption Parish Police Jury (K) | 1, 9, 10, 14 | 11/4/05
LA253 | Housing Authority of Lafourche Parish (K) (R) | 1, 2, 9, 11, 13, 14 | 11/16/05
LA262 | East Carroll Parish Housing Authority (K) | 3, 4 | 10/18/05
LA889 | Pilgrim Rest Community Development Agency (K) | 1-3, 9-14 | 12/6/05
MS001 | Hattiesburg Housing Authority (K) | 4, 8 | 10/21/05
MS002 | City of Laurel Housing Authority (K) | 1-6, 10 | 10/18/05
MS002 | City of Laurel Housing Authority (K) | 5 | 11/02/05
MS003 | The Housing Authority of the City of McComb City, Mississippi (K) | 1-8, 9-12, 15 | 10/13/05
MS005 | Biloxi Housing Authority (K) | 1 through 15 | 10/11/05
MS030 | MS Regional Housing Authority No. V (K) | 1-4, 8-15 | 11/22/05
MS040 | Mississippi Regional Housing Authority No. VIII (K) | 1 through 15 | 10/20/05
MS047 | The Housing Authority of the City of Starkville, Mississippi (K) | 4 | 11/9/05
MS057 | Mississippi Regional Housing Authority No. VII (K) | 1, 13, 14 | 10/7/05
MS058 | Mississippi Regional Housing Authority No. VI (K) | 3, 4, 11, 14 | 11/7/05
MS061 | Canton Housing Authority (K) | 1, 4 | 10/17/05
MS064 | Bay St. Louis Housing Authority (K) | 1-6, 8-11, 14 | 10/10/05
MS066 | Picayune Housing Authority (K) | 4, 5 | 11/30/05
MS071 | Aberdeen Housing Authority (K) | 3, 4, 15 | 10/25/05
MS077 | Tupelo Housing Authority (K) | 1, 4 | 10/20/05
MS082 | Winona Housing Authority (K) | 1, 3, 4, 15 | 11/18/05
MS084 | Housing Authority of the Town of Summit (K) | 1-8, 10-12, 15 | 10/13/05
MS094 | Hazlehurst Housing Authority (K) | 1, 4, 5, 8, 15 | 11/7/05
MS101 | Waveland Housing Authority (K) | 1-4, 6-8, 15 | 10/6/05
MS103 | The Housing Authority of the City of Jackson, Mississippi (K) | 1-4, 8-13, 15 | 10/13/05
MS107 | Greenwood Housing Authority (K) | 1-5, 9-11 | 10/6/05
TX004 | Fort Worth Housing Authority (R) | 1-3, 9-11, 14 | 11/15/05
TX005 | Housing Authority of the City of Houston (R) | 1, 2, 4-6, 8, 9, 11, 13-15 | 10/18/05
TX009 | The Housing Authority of the City of Dallas, Texas (R) | 1, 2, 7, 11, 15 | 11/01/05
TX023 | Housing Authority of the City of Beaumont (R) | 1, 2-8, 13-15 | 10/19/05
TX034 | City of Port Arthur Housing Authority (R) | 1, 3,4, 8-11, 13, 14 | 11/28/05
TX037 | Orange Housing Authority (R) | 1, 3, 4, 11, 14, 15 | 11/29/05
TX383 | San Augustine Housing Authority (R) | 1 through 15 | 12/6/05
TX431 | Tarrant County Housing Assistance Office (R) | 1-3, 9-11, 14 | 11/28/05
TX436 | City of Mesquite Housing Authority (R) | 14 | 11/23/05
TX512 | Deep East Texas Council of Governments (DETCOG) Regional Housing Authority (R) | 3, 9-11,14 | 10/25/05
TX526 | Brazos Valley Council of Governments (R) | 1, 2, 9-11, 13, 14 | 11/16/05
TX540 | Brenham Section 8 Program, City of (BVDC) (R) | 1, 2, 9-11, 13, 14 | 11/16/05

• Regulation: 24 CFR Part 5 and Part 266

Project/Activity: Housing Authority of Richland (WA065), Richland, WA.

Nature of Requirement: The regulations in 24 CFR part 5 and part 266 establish certain reporting compliance dates. The audited financial statements are required to be submitted no later than nine months after the housing authority's fiscal year end in accordance with the Single Audit Act and OMB Circular A-133.

Granted By: Orlando J. Cabrera, Assistant Secretary for Public and Indian Housing.

Date Granted: December 15, 2005.

Reason Waived: The housing authority requested a waiver extension of 90 days to submit the Section 8 Housing Choice Voucher Program audited financial data. The audited submission was due on September 30, 2005, for the fiscal year ending December 31, 2004, but due to difficulties with the financial reporting portion of its software program, and resolution of the problems with the vendor, the housing authority was unable to submit its audited financial data by the due date.

Contact: David R. Ziaya, Program Manager, NASS, Real Estate Assessment Center, Office of Public and Indian Housing, Department of Housing and Urban Development, 550 12th Street, SW., Suite 100, Washington, DC 20410, telephone (202) 475-8574

• Regulation: 24 CFR 902.20

Project/Activity: City of Daytona Beach Housing Authority (FL007), Daytona Beach, FL.

Nature of Requirement: Section 902.20 provides for a determination of whether a housing authority is meeting the standard of decent, safe, sanitary, and in good repair. The Real Estate Assessment Center provides for an independent physical inspection of a housing authority's property or properties that includes a statistically valid sample of the units.

Granted By: Paula O. Blunt, General Deputy Assistant Secretary for Public and Indian Housing.

Date Granted: November 4, 2005.

Reason Waived: Three different hurricanes caused extensive damage to the properties of the City of Daytona Beach Housing Authority on August 14, September 5, and September 26, 2004. The housing authority submitted and received approval of a waiver on January 28, 2005, for fiscal year ending June 30, 2005. However, due to high estimates to repair the damages, the housing authority had to re-bid the work multiple times. This action caused a delay resulting in repairs that are not expected to be complete until September 2006. The housing authority requested and received approval waiving physical inspections for fiscal year 2006. Physical inspections will resume for the fiscal year ending June 30, 2007, assessment cycle.

Contact: David R. Ziaya, Program Manager, NASS, Real Estate Assessment Center, Office of Public and Indian Housing, Department of Housing and Urban Development, 550 12th Street, SW., Suite 100, Washington, DC 20410, telephone (202) 475-8574.

• Regulation: 24 CFR 902.20

Project/Activity: DeLand Housing Authority (FL072), DeLand, FL.

Nature of Requirement: Section 902.20 provides for a determination of whether a housing authority is meeting the standard of decent, safe, sanitary, and in good repair. The Real Estate Assessment Center provides for an independent physical inspection of a housing authority's property or properties that includes a statistically valid sample of the units.

Granted By: Orlando J. Cabrera, Assistant Secretary for Public and Indian Housing.

Date Granted: December 15, 2005.

Reason Waived: The housing authority requested and was granted a waiver from physical inspections for fiscal year 2006 because four different hurricanes caused extensive damage during the summer season. In addition, the housing authority had difficulty securing bids to repair the damages resulting from the hurricanes.

Contact: David R. Ziaya, Program Manager, NASS, Real Estate Assessment Center, Office of Public and Indian Housing, Department of Housing and Urban Development, 550 12th Street, SW., Suite 100, Washington, DC 20410, telephone (202) 475-8574.

• Regulation: 24 CFR 902.20, 902.30, 902.40, and 902.50

Project/Activity: Housing Authority of the City of Beaumont (TX023), Beaumont, TX.

Nature of Requirement: Section 902.20 provides for a determination of whether a housing authority is meeting the standard of decent, safe, sanitary, and in good repair. HUD's Real Estate Assessment Center provides for an independent physical inspection of a housing authority's property or properties that includes a statistically valid sample of the units. Additionally, the regulation establishes certain reporting compliance dates; namely, the Un-audited financial statements are required to be submitted within two months after the housing authority's fiscal year end and the audited financial statements are required to be submitted no later than nine months after the housing authority's fiscal year end in accordance with the Single Audit Act and OMB Circular A-133 (implemented in 24 CFR 902.30), and the management operations certifications are required to be submitted within two months after the housing authority's fiscal year end (implemented in 24 CFR 902.40). The Resident Service and Satisfaction Indicator are performed through the use of a survey. The housing authority is responsible for completing implementation plan activities and developing a follow-up plan (implemented in 24 CFR 902.50).

Granted By: Paula O. Blunt, General Deputy Assistant Secretary for Public and Indian Housing.

Date Granted: October 24, 2005.

Reason Waived: The Housing Authority of the City of Beaumont has been involved in assisting families affected by Hurricanes Katrina and Rita.

Contact: Wanda Funk, Hurricane Disaster Relief Coordinator, Real Estate Assessment Center, Office of Public and Indian Housing, Department of Housing and Urban Development, 550 12th Street, SW., Suite 100, Washington, DC 20410, telephone (202) 475-8736.

• Regulation: 24 CFR 902.20, 902.30, 902.40, and 902.50

Project/Activity: Housing Authority of the City of Houston (TX005), Houston, TX.

Nature of Requirement: Section 902.20 provides for a determination of whether a housing authority is meeting the standard of decent, safe, sanitary, and in good repair. HUD's Real Estate Assessment Center provides for an independent physical inspection of a housing authority's property or properties that includes a statistically valid sample of the units. Additionally, the regulation establishes certain reporting compliance dates; namely, the Un-audited financial statements are required to be submitted within two months after the housing authority's fiscal year end and the audited financial statements are required to be submitted no later than nine months after the housing authority's fiscal year end in accordance with the Single Audit Act and OMB Circular A-133 (implemented in 24 CFR 902.30), and the management operations certifications are required to be submitted within two months after the housing authority's fiscal year end (implemented in 24 CFR 902.40). The Resident Service and Satisfaction Indicator are performed through the use of a survey. The housing authority is responsible for completing implementation plan activities and developing a follow-up plan (implemented in 24 CFR 902.50).

Granted By: Paula O. Blunt, General Deputy Assistant Secretary for Public and Indian Housing.

Date Granted: October 28, 2005.

Reason Waived: The Housing Authority of the City of Houston has been, and continues to be, integrally involved in providing housing assistance to those families displaced by Hurricane Katrina. As of October 3, 2005, the housing authority received and confirmed 2400 tenant-based voucher applications, issued 995 tenant-based vouchers, housed 632 Section 8 tenants, received 11,201 Emergency City Voucher applications and assisted 36,259 persons at its main office and outreach sites.

Contact: Wanda Funk, Hurricane Disaster Relief Coordinator, Real Estate Assessment Center, Office of Public and Indian Housing, Department of Housing and Urban Development, 550 12th Street, SW., Suite 100, Washington, DC 20410, telephone (202) 475-8736.

• Regulation: 24 CFR 902.20, 902.30, 902.40, and 902.50

Project/Activity: Housing Authority of the City of Tampa (FL003), Tampa, FL.

Nature of Requirement: Section 902.20 provides for a determination of whether a housing authority is meeting the standard of decent, safe, sanitary, and in good repair. HUD's Real Estate Assessment Center provides for an independent physical inspection of a housing authority's property or properties that includes a statistically valid sample of the units. Additionally, the regulation establishes certain reporting compliance dates; namely, the Un-audited financial statements are required to be submitted within two months after the housing authority's fiscal year end and the audited financial statements are required to be submitted no later than nine months after the housing authority's fiscal year end in accordance with the Single Audit Act and OMB Circular A-133 (implemented in 24 CFR 902.30), and the management operations certifications are required to be submitted within two months after the housing authority's fiscal year end (implemented in 24 CFR 902.40). The Resident Service and Satisfaction Indicator are performed through the use of a survey. The housing authority is responsible for completing implementation plan activities and developing a follow-up plan (implemented in 24 CFR 902.50).

Granted By: Orlando J. Cabrera, Assistant Secretary for Public and Indian Housing.

Date Granted: November 23, 2005.

Reason Waived: The Housing Authority of the City of Tampa has been involved in holding, preparing and modernizing its units for Hurricane Katrina affected families. It has also been actively involved in assisting families from a social service/case management perspective as well. All of the housing authority's operational areas have been involved and continue to stay involved by not only directly assisting families but also coordinating HUD's efforts with the City of Tampa, Hillsborough County and other service agencies. The housing authority is working with the KDHAP program and has opened a “One Stop Shop” with the County, et al, to more succinctly assist the families with their needs.

Contact: Wanda Funk, Hurricane Disaster Relief Coordinator, Real Estate Assessment Center, Office of Public and Indian Housing, Department of Housing and Urban Development, 550 12th Street, SW., Suite 100, Washington, DC 20410, telephone (202) 475-8736.

• Regulation: 24 CFR 902.30

Project/Activity: Dallas Housing Authority (TX009), Dallas, TX.

Nature of Requirement: Section 902.30 establishes certain reporting compliance dates. The audited financial statements are required to be submitted no later than nine months after the housing authority's fiscal year end in accordance with the Single Audit Act and OMB Circular A-133.

Granted By: Paula O. Blunt, General Deputy Assistant Secretary for Public and Indian Housing.

Date Granted: September 28, 2005.

Reason Waived: The housing authority requested a waiver of the audited financial submission due date of September 30, 2005, for its fiscal year ending December 31, 2004. An unforeseen issue not identified at the time the housing engaged the new auditor, caused the housing authority to re-issue the housing authority's 2003 annual financial audit. Consequently, the new audit firm could not issue the 2004 Comprehensive Annual Financial Report until the re-issuance of the 2003 audit. The housing authority was granted a waiver to complete and submit the audited financial information by October 31, 2005.

Contact: David R. Ziaya, Program Manager, NASS, Real Estate Assessment Center, Office of Public and Indian Housing, Department of Housing and Urban Development, 550 12th Street, SW., Suite 100, Washington, DC 20410, telephone (202) 475-8574.

• Regulation: 24 CFR 902.30

Project/Activity: Chattanooga Housing Authority (TN004), Chattanooga, TN.

Nature of Requirement: Section 902.30 establishes certain reporting compliance dates. The audited financial statements are required to be submitted no later than nine months after the housing authority's fiscal year end in accordance with the Single Audit Act and OMB Circular A-133.

Granted By: Paula O. Blunt, General Deputy Assistant Secretary for Public and Indian Housing.

Date Granted: October 4, 2005.

Reason Waived: The housing authority requested a waiver of the audited financial submission due date of September 30, 2005, for fiscal year ending December 31, 2004. The housing authority assisted and housed families displaced by Hurricane Katrina requiring the housing authority's staff to work 10-12 hour days, including weekends, in this effort. The housing authority was granted 30 days to complete and submit the audited financial information.

Contact: David R. Ziaya, Program Manager, NASS, Real Estate Assessment Center, Office of Public and Indian Housing, Department of Housing and Urban Development, 550 12th Street, SW., Suite 100, Washington, DC 20410, telephone (202) 475-8574.

• Regulation: 24 CFR 902.30

Project/Activity: Beverly Housing Authority (NJ018), Burlington, NJ.

Nature of Requirement: Section 902.30 establishes certain reporting compliance dates. The audited financial statements are required to be submitted no later than nine months after the housing authority's fiscal year end in accordance with the Single Audit Act and OMB Circular A-133.

Granted By: Paula O. Blunt, General Deputy Assistant Secretary for Public and Indian Housing.

Date Granted: October 5, 2005.

Reason Waived: The housing authority requested a waiver of the 2004 audited financial re-submission due date of July 26, 2005, for fiscal year ending September 30, 2004. The housing authority's audited financial submission was rejected requiring the housing authority to resubmit a corrected audited financial submission by July 26, 2005. The rejection notice was sent to the housing authority on July 11, 2005. During the period July 11, 2005 through July 19, 2005, the housing authority was without Internet access, and the rejection notice was not received by the housing authority until July 19, 2005. The auditor worked on the resubmission but was unable to complete and resubmit the audited financial information by July 26, 2005. The housing authority was given an additional 15 days to resubmit the corrected audited financial data.

Contact: David R. Ziaya, Program Manager, NASS, Real Estate Assessment Center, Office of Public and Indian Housing, Department of Housing and Urban Development, 550 12th Street, SW., Suite 100, Washington, DC 20410, telephone (202) 475-8574.

• Regulation: 24 CFR 902.30

Project/Activity: City of Stanton Housing Authority (TX190), Stanton, TX.

Nature of Requirement: Section 903.30 establishes certain reporting compliance dates. The audited financial statements are required to be submitted no later than nine months after the housing authority's fiscal year end, in accordance with the Single Audit Act and OMB Circular A-133.

Granted By: Paula O. Blunt, General Deputy Assistant Secretary for Public and Indian Housing.

Date Granted: October 19, 2005.

Reason Waived: The housing authority requested a waiver extension of the audited financial submission due date of September 30, 2005, for the fiscal year ending December 31, 2004. The Executive Director of the housing authority was not available for the independent auditor to complete the fieldwork due to surgery. Thirty additional days were authorized for the housing authority to complete and submit the audited financial data.

Contact: David R. Ziaya, Program Manager, NASS, Real Estate Assessment Center, Office of Public and Indian Housing, Department of Housing and Urban Development, 550 12th Street, SW., Suite 100, Washington, DC 20410, telephone (202) 475-8574.

• Regulation: 24 CFR 941.606(n)(l)(ii)(B)

Project/Activity: Millennium Place III Closing, Muncie, HOPE VI Grant: IN-36-URD-005-I-102, Muncie, Indiana Nature of Requirement: This regulatory provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: December 29, 2005.

Reason Waived: The waiver was approved as the Muncie Housing Authority demonstrated a good case to waive this regulation so that the developer, Flaherty and Collins (F&C), could serve as the developer and general contractor for the development of 35 rental units in Phase III. The Housing Authority of Muncie (MHA) selected F&C as its developer through a competitive process in accordance with HUD's procurement regulations at 24 CFR part 85. All contractor fees are within HUD's cost control and safe harbor standards. F&C was chosen as the general contractor because of its demonstrated track record on Millennium Place I and Millennium Place II. Costs are less than the estimated costs submitted by a third party estimation. The work performed by F&C to date has been of high quality.

Contact: Dominique Blom, Acting Deputy Assistant Secretary for the Office of Public Housing Investments, Office of Public and Indian Housing, Department of Housing and Urban Development, 451 Seventh Street, SW., Room 4134, Washington, DC 20410; telephone (202) 401-8812.

• Regulation: 24 CFR 982.505(d)

Project/Activity: King County Housing Authority (KCHA), Seattle, WA. The KCHA requested a waiver regarding exception payment standards so that it could provide a reasonable accommodation to a Housing Choice Voucher (HCV) participant with disabilities.

Nature of Requirement: Section 982.505(d) allows a PHA to approve a higher payment standard within the basic range of 90 to 110 percent for a family that includes a person with a disability as a reasonable accommodation in accordance with 24 CFR part 8.

Granted By: Orlando J. Cabrera, Assistant Secretary for Public and Indian Housing.

Date Granted: November 28, 2005.

Reason Waived: Approval of this waiver was granted to allow a Housing Choice Voucher participant to rent a wheelchair-accessible unit due to an arthritic condition and upcoming surgery, as documented by the case manager.

Contact: Dr. Alfred Jurison, Director, Housing Voucher Management and Operations Division, Office of Public Housing and Voucher Programs, Office of Public and Indian Housing, Department of Housing and Urban Development, 451 Seventh Street, SW., Room 4210, Washington, DC 20410; telephone (202) 708-0477.

• Regulation: 24 CFR 983.51(a) (b) and (c), 983.55(a) and (d), 983.56(c), and Section 983.7(f)(2)(ii), and Section II, subpart E of the January 16, 2001, Federal Register Notice, Revisions to PHA Project-Based Assistance (PBA) Program; Initial Guidance

Project/Activity: Tacoma Housing Authority (THA), Tacoma, WA. The THA requested a waiver of the competitive selection requirements and an exception to the deconcentration requirements to permit it to attach PBA to 45 of 90 newly constructed units that will comprise the third phase of the Salishan HOPE VI development.

Nature of Requirement: Sections 983.51(a) (b) and (c), 983.55(a) and (d), 983.56(c), and Section 983.7(f)(2)(ii) require that the public housing agency (PHA) adopt a written policy establishing competitive procedures for selection of owner proposals and, if the PHA submits a proposal for units it owns, the HUD field office makes the selection in accordance with the PHA's unit selection policy. Section II, subpart E, of the Initial Guidance requires that in order to meet the Department's goal of deconcentration and expanding housing and economic opportunities, the projects must be in census tracts with poverty rates of less than 20 percent.

Granted By: Paula O. Blunt, General Deputy Assistant Secretary for Public and Indian Housing.

Date Granted: October 4, 2005.

Reason Waived: Competitive selection of owner proposals was waived since the developer, Lorig Salishan, LLC, was selected by the THA through a competitive procurement process. An exception to the deconcentration requirements was granted since the development is located in the City of Tacoma's Renewal Community Area, which replaced HUD's former designation of this area as an Enterprise Community. It is also part of the Community Empowerment Zone as designated by the State of Washington. The overall strategy for this neighborhood is preservation and revitalization, which is consistent with the goal of deconcentrating poverty.

Contact: Dr. Alfred Jurison, Director, Housing Voucher Management and Operations Division, Office of Public Housing and Voucher Programs, Office of Public and Indian Housing, Department of Housing and Urban Development, 451 Seventh Street, SW., Room 4210, Washington, DC 20410; telephone (202) 708-0477.

• Regulation: 24 CFR 990.107(f) and 990.109

Project/Activity: Luzerne County Housing Authority (PA057), Kingston, PA.

Nature of Requirement: Under §§ 990.107(f) and 990.109, the Public Housing Operating Fund Formula energy conservation incentive that relates to energy performance contracting applied only to PHA-paid utilities. The Luzerne County Housing Authority has resident-paid utilities.

Granted By: Orlando J. Cabrera, Assistant Secretary for Public and Indian Housing.

Date Granted: December 5, 2005.

Reason Waived: A request was made to permit the Luzerne County Housing Authority (LCHA) to benefit from energy performance contracting for developments that have resident-paid utilities. The LCHA estimated that it could increase energy savings substantially if it were able to undertake energy performance contracting for its resident-paid utilities. In September 1996, the Oakland Housing Authority was granted a waiver to permit it to benefit from energy performance contracting for developments with resident-paid utilities. The waiver was granted on the basis that the Oakland Housing Authority presented a sound and reasonable methodology for doing so. The LCHA requested a waiver based on the same approved methodology. The waiver permits the LCHA to exclude from its Operating Fund calculation of rental income the increased rental income due to the difference between updated baseline utility allowances (before implementation of the energy conservation measures) and revised allowances (after implementation of the measures) for the project(s) involved for the duration of the contract period, which cannot exceed 12 years.

Contact: Peggy Mangum, Public Housing Financial Management Division, Real Estate Assessment Center, Office of Public and Indian Housing, Department of Housing and Urban Development, 550 12th Street, SW., Suite 100, Washington, DC 20024, telephone (202) 475-8778.

• Regulation: 24 CFR 990.145

Project/Activity: Gainesville Housing Authority (GA059), Gainesville, GA.

Nature of Requirement: Under 24 CFR 990.145, a PHA is eligible to receive operating subsidy for vacant public housing units only pursuant to the criteria established in the regulation.

Granted By: Paula O. Blunt, General Deputy Assistant Secretary for Public and Indian Housing.

Date Granted: October 24, 2005.

Reason Waived: A request was made to permit the Gainesville Housing Authority to treat under 24 CFR 990.145 certain vacant units as “approved vacancies” which units are available for occupancy but not previously approved vacancies, if the units will be occupied by or are being held for families affected by Hurricane Katrina during the upcoming funding year.

To the extent that the Gainesville Housing Authority has units that it is keeping vacant for Hurricane Katrina families that it would otherwise lease, these affected units will be treated as “approved vacancies.”

Contact: Gregory Byrne, Director, Public Housing Financial Management Division, Real Estate Assessment Center, Office of Public and Indian Housing, Department of Housing and Urban Development, 550 12th St., SW., Suite 100, Washington, DC 20024, telephone (202) 475-8732.

• Regulation: Section II, Subpart E of the January 16, 2001, Federal Register Notice, Revisions to PHA Project-Based Assistance (PBA) Program; Initial Guidance

Project/Activity: Massachusetts Department of Housing and Community Development (MDHCD), Boston, MA. The MDHCD requested an exception to the deconcentration requirements to permit it to attach PBA to units at Amory Street Residences.

Nature of Requirement: Section II, subpart E, of the Initial Guidance requires that in order to meet the Department's goal of deconcentration and expanding housing and economic opportunities, the projects must be in census tracts with poverty rates of less than 20 percent.

Granted By: Paula O. Blunt, General Deputy Assistant Secretary for Public and Indian Housing.

Date Granted: October 26, 2005.

Reason Waived: An exception to the deconcentration requirements was granted since the development is located in the City of Boston's HUD-designated Empowerment Zone. The purpose of an Empowerment Zone is to open new businesses, create jobs, housing, and new educational and healthcare opportunities for Americans living in distressed areas, that is consistent with the goal of deconcentrating poverty.

Contact: Dr. Alfred Jurison, Director, Housing Voucher Management and Operations Division, Office of Public Housing and Voucher Programs, Office of Public and Indian Housing, Department of Housing and Urban Development, 451 Seventh Street, SW., Room 4210, Washington, DC 20410; telephone (202) 708-0477.

[FR Doc. 06-4289 Filed 5-9-06; 8:45 am]

BILLING CODE 4210-67-P